DEPARTMENT OF HOUSING AND URBAN DEVELOPMENT

[Docket No. FR-4767-N-02]

Notice of Regulatory Waiver Requests Granted for the Second Quarter of Calendar Year 2002

AGENCY: Office of the Secretary, HUD.

ACTION: Public notice of the granting of regulatory waivers from April 1, 2002, through June 30, 2002.

SUMMARY: Section 106 of the Department of Housing and Urban Development Reform Act of 1989 (the HUD Reform Act) requires HUD to publish quarterly Federal Register notices of all regulatory waivers that HUD has approved. Each notice must cover the quarterly period since the most recent Federal Register notice. The purpose of this notice is to comply with the requirements of section 106 of the HUD Reform Act. This notice contains a list of regulatory waivers granted by HUD during the quarter beginning on April 1, 2002, and ending on June 30, 2002.

FOR FURTHER INFORMATION CONTACT: For general information about this notice, contact Aaron Santa Anna, Assistant General Counsel for Regulations, Room 10276, Department of Housing and Urban Development, 451 Seventh Street, SW., Washington, DC 20410-0500; telephone (202) 708-3055 (this is not a toll-free number). Hearing- or speech-impaired persons may access this number via TTY by calling the toll-free Federal Information Relay Service at 1-800-877-8391.

For information concerning a particular waiver action for which public notice is provided in this document, contact the person whose name and address follow the description of the waiver granted in the accompanying list of waiver-grant actions.

SUPPLEMENTARY INFORMATION: As part of the HUD Reform Act, the Congress adopted, at HUD's request, legislation to limit and control the granting of regulatory waivers by HUD. Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request; and

e. State how additional information about a particular waiver-grant action may be obtained.

Section 106 of the HUD Reform Act also contains requirements applicable to waivers of HUD handbook provisions that are not relevant to the purpose of this notice.

This notice follows procedures provided in HUD's Statement of Policy on Waiver of Regulations and Directives issued on April 22, 1991 (56 FR 16337). This notice covers HUD's waiver-grant activity from April 1, 2002, through June 30, 2002. For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the grant of a particular waiver request, the action is listed under the section number of the first regulatory requirement that appears in title 24 of the Code of Federal Regulations and that is being waived as part of the waiver-grant action. For example, a waiver of both § 58.73 and § 58.74 would appear sequentially in the listing under § 58.73.

Waiver-grant actions involving the same initial regulatory citation are in time sequence beginning with the earliest-dated waiver-grant action.

Should HUD receive additional reports of waiver actions taken during the period covered by this report before the next report is published, the next updated report will include these earlier actions, as well as those that occurred during July 1, 2002, through September 30, 2002.

Accordingly, information about approved waiver requests pertaining to HUD regulations is provided in the Appendix that follows this notice.

Dated: September 27, 2002.
Alphonso Jackson,
Deputy Secretary.

Appendix

Listing of Waivers of Regulatory Requirements Granted by Offices of the Department of Housing and Urban Development April 1, 2002, Through June 30, 2002

Note to Reader: More information about the granting of these waivers, including a copy of the waiver request and approval, may be obtained by contacting the person whose name is listed as the contact person directly after each set of waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following waiver actions, please see the name of the contact person who immediately follows the description of the waiver granted.

• Regulations: 24 CFR 91.520(a).

Project/Activity: The State of Wisconsin requested a waiver of the Consolidated Annual Performance and Evaluation Report (CAPER) Deadline.

Nature of Requirement: Section 91.520(a) requires each grantee to submit a performance report to HUD within 90 days after the close of the grantee's program year. The State of Wisconsin's program year ended on March 31, 2002; thus, its CAPER was due on June 30, 2002. The state requested an extension of its submission deadline until September 30, 2002.

Granted By: Roy A. Bernardi, Assistant Secretary for Community Planning and Development.

Date Granted: June 6, 2002.

Reasons Waived: While HUD desires timely reports, it is also interested in ensuring that the performance reports prepared by grantees are complete and accurate. Therefore, under the authority of 24 CFR 91.600, the requirements of 24 CFR 91.520(a) were waived and the State of Wisconsin was given an extension to September 30, 2002, to submit its 2001 CAPER to HUD.

Contact: Cornelia Robertson-Terry, Office of Community Planning and Development, Room 7152, Department of Housing and Urban Development, 451 Seventh Street, SW., Washington, DC 20410; telephone: (202) 708-2565, extension 4556.

• Regulations: 24 CFR 92.212(b).

Project/Activity: Washington County Consortium in Texas requested a waiver of the pre-award costs requirements set forth at 24 CFR 92.212(b) of the HOME regulations.

Nature of Requirements: Section 92.212(b) provides that administrative and planning costs may be incurred at the beginning of the participating jurisdiction's consolidated program year, or the date the Consolidated Plan is received by HUD, whichever is later. Such costs may be charged to the HOME allocation after its award, provided the costs meet the statutory and regulatory requirements of the HOME program.

Granted by: Roy A. Bernardi, Assistant Secretary for Community Planning and Development.

Date Granted: April 29, 2002.

Reasons Waived: The Department found that the need of the Washington County Consortium to develop and execute various documents to complete the process of becoming a participating jurisdiction constitutes good cause for a waiver to permit the county to incur pre-award costs for eligible HOME planning and administrative activities. The waiver granted covers those costs incurred in forming the consortium and developing the Consolidated Plan that are incurred after the date the consortium notifies HUD of its intention to participate in the HOME program. The waiver is consistent with the provisions of 24 CFR 570.200(h)(1)(i) of the Community Development Block Grant regulations which authorize new grantees to incur pre-award costs for the development of the first Consolidated Plan.

Contact: Cornelia Robertson-Terry, Office of Community Planning and Development, Room 7152, Department of Housing and Urban Development, 451 Seventh Street, SW., Washington, DC 20410; telephone: (202) 708-2565, extension 4556.

• Regulations: 24 CFR 92.252(a).

Project Activity: The Commonwealth of Massachusetts, on behalf of Boston Aging Concerns Young and Old United, Inc. (BAC-YOU) and its “GrandFamilies House” in Dorchester, Massachusetts, requested a waiver of the HOME rent requirements.

Nature of Requirement: Section 92.252(a) provides for the use of Section 8 fair market rents in HOME units if the units are occupied by a head-of-household caring for grandchildren if three conditions are met. First, a qualified family receiving Section 8 tenant-based rental assistance must occupy the unit. Second, the rent for the unit must not exceed the fair market rent for comparable units in the area. Third, additional revenue from the higher rent must be expended for improved affordable housing for the grandfamilies.

Granted By: Roy A. Bernardi, Assistant Secretary for Community Planning and Development.

Date Granted: May 22, 2002.

Reasons Waived: The Department determined that 18 high HOME rent units in the BAC-YOU- GrandFamilies House satisfy the three conditions required by Section 215 of National Affordable Housing Act. Good cause for waiver exists because the revenue generated by the waiver enables BAC-YOU- to enhance the services provided by the GrandFamilies House to its residents. The waiver was granted to permit BAC-YOU- to charge the Section 8 rent in the 18 high HOME rent units in the GrandFamilies House. The Commonwealth of Massachusetts requested that the waiver be granted retroactively to the date of the statutory amendment. The Department does not grant retroactive waivers. The waiver was granted prospectively only.

Contact: Cornelia Robertson-Terry, Office of Community Planning and Development, Room 7152, Department of Housing and Urban Development, 451 Seventh Street, SW., Washington, DC 20410; telephone: (202) 708-2565, extension 4556.

• Regulations: 24 CFR 92.254(a)(2)(iii).

Project/Activity: DeKalb County, Georgia, requested a waiver for the City of Decatur of the HOME regulation requiring participating jurisdictions to use the Single Family Mortgage Limits.

Nature of Requirement: Section 92.254(a)(2)(iii) of the HOME regulation requires participating jurisdictions to use the Single Family Mortgage Limits established under Section 203(b) of the National Housing Act to determine maximum after rehabilitation value of the single family homeownership units assisted with HOME funds. As an alternative to the Section 203(b) limits, HOME regulations at 24 CFR 92.254 (a)(2)(iii) allow participating jurisdictions to perform a local market survey to determine 95 percent of the median area purchase price for single-family housing; this figure then serves as the maximum value limit for single family homeownership units.

Granted By: Roy A. Bernardi, Assistant Secretary for Community Planning and Development.

Date Granted: May 10, 2002.

Reasons Waived: Dekalb County requested a waiver to permit it to use the survey data of the City of Decatur to establish 95 percent of median area purchase price for the single-family housing located in the city instead of using county-wide survey data. The remainder of the county will continue to use the Section 203(b) Single Family Mortgage Limit. There is good cause to grant the waiver because DeKalb County has documented a significant disparity in the value of housing between the City of Decatur and the rest of the county. The waiver applies to the City of Decatur's owner occupied rehabilitation program. The county must resubmit a survey of sales prices within the city to HUD annually.

Contact: Cornelia Robertson-Terry, Office of Community Planning and Development, Room 7152, Department of Housing and Urban Development, 451 Seventh Street, SW., Washington, DC 20410; telephone: (202) 708-2565, extension 4556.

• Regulations: 24 CFR 92.258(a) and 92.258(d)(1).

Project Activity: The State of Kansas requested a waiver to allow two HOME-assisted Elder Cottage Housing Opportunity (ECHO) units to be relocated to the site of a multifamily housing project for the developmentally disabled.

Nature of Requirement: Section 92.258(a) states that ECHO units are to be designed to be installed adjacent to existing single-family dwellings. The regulations at 24 CFR 92.258(d)(1) also state that, “only one ECHO unit may be provided per host property.”

Granted By: Roy A. Bernardi, Assistant Secretary for Community Planning and Development.

Dated Granted: May 10, 2002.

Reasons Waived: The Department found that there was good cause to grant this waiver because doing so will preserve the availability of affordable housing in Kansas. The Department considers this arrangement between the Northeast Kansas Community Action Program and Achievement Services to be acceptable given that eligible persons will occupy the units and the units will maintain their affordability.

Contact: Cornelia Robertson-Terry, Office of Community Planning and Development, Room 7152, Department of Housing and Urban Development, 451 Seventh Street, SW., Washington, DC 20410; telephone: (202) 708-2565, extension 4556.

• Regulations: 24 CFR 92.503(b).

Project/Activity: The State of Iowa requested waiver of the repayment requirement of the HOME Investment Partnerships Program final rule.

Nature of Requirement: Section 92.503(b) requires that a participating jurisdiction must repay HOME funds invested in housing that does not meet the affordability requirements for the period specified. While the period of affordability for the original house will not be met, the participating jurisdiction is proposing to substitute a larger unit that better suits the needs of the occupants and that satisfies all HOME requirements for the remaining period of affordability.

Granted By: Roy A. Bernardi, Assistant Secretary for Community Planning and Development.

Date Granted: April 9, 2002.

Reasons Waived: The Department determined that there was good cause for the waiver because the interest of the low-income residents will be protected and the objective of the HOME program will continue to be met.

Contact: Cornelia Robertson-Terry, Office of Community Planning and Development, Room 7152, Department of Housing and Urban Development, 451 Seventh Street, SW., Washington, DC 20410; telephone: (202) 708-2565, extension 4556.

• Regulations: 24CFR 570.206(g).

Project/Activity: The City of Moorhead, Minnesota, requested a waiver so that the city could pay eligible administrative costs to facilitate the development of 34 units of affordable rental housing.

Nature of Requirement: Section 570.206(g) provides that assistance under this part of the regulation is limited to units that are identified in the grantee's HUD approved housing assistance plan (HAP). In as much as the Consolidated Plan includes non-housing activities and is not exclusively limited to low- and moderate-income persons, the Department determined that 24 CFR 570.206(g) cannot be read as only allowing a substitution costs related to the Consolidated Plan for costs formerly eligible in connection with the HAP. However, if a specific activity is construed to include a HAP-type of implementing activity for costs statutorily permitted, the Department is willing to consider a waiver of 24 CFR 570.206(g) to permit the expenditure of Community Development Block Grant (CDBG) funds for administrative expenses designed to facilitate the development of housing.

Granted By: Roy A. Bernardi, Assistant Secretary for Community Planning and Development.

Date Granted: April 12, 2002.

Reasons Waived: The use of CDBG funds in this instance, to pay for pre-development costs related to the development of 34 units of affordable rental housing, is a HAP type of implementing activity for costs statutorily permitted. If a waiver is not approved and the city is unable to raise the funds to provide the required local funding for this project, these affordable rental housing units would be lost. This would create an undue hardship and adversely affect the purposes of the program because there is a need for these housing units for low-and-moderate income households, therefore a waiver was granted.

Contact: Cornelia Robertson-Terry, Office of Community Planning and Development, Room 7152, Department of Housing and Urban Development, 451 Seventh Street, SW., Washington, DC 20410; telephone: (202) 708-2565, extension 4556.

• Regulations: 24 CFR 882.408(b).

Project/Activity: Miami Dade Housing Agency (MDHA) and Carrfour Corporation of Miami, Florida, requested a waiver of the current Moderate Rehabilitation Single Room Occupancy (SRO) Fair Market Rent (FMR) for the Little Haiti Gateway SRO project.

Nature of Requirement: Section 882.408(b) provides that, with Field Office approval, a public housing agency (PHA) may approve initial gross rents which exceed the applicable FMR by up to 10 percent for all units of a given size in specified areas.

Granted By: Roy A. Bernardi, Assistant Secretary for Community Planning and Development.

Date Granted: April 18, 2002.

Reasons Waived: The provision of 24 CFR 882.408(b) which allows pre-agreement exception rents to be approved only on an area-wide basis has been waived. The reasons are: MDHA has been working since 1993, when the project was conditionally approved, to bring this project to completion. The ACC was effective on June 1, l995. During the last six years there have been many obstacles that have caused project delays. The delays included change in owner, change in sites, obtaining financial resources, and change in developer. When the original owner was unable to develop the project, MDHA initiated a request for proposals process for a new owner and Carrfour was selected in March 1997, to develop the Little Haiti project. Carrfour identified a site but the site fell through since the owner of the property, which was occupied, failed to obtain consent of the beneficiaries within the prescribed time frame. Therefore, another site had to be located and this took approximately six months. The change in sites affected the use of acquisition funds allocated by the State for the project. The funds originally set aside for the other proposed site had to be reprogrammed for the new site, which took over two years.

Contact: Cornelia Robertson-Terry, Office of Community Planning and Development, Room 7152, Department of Housing and Urban Development, 451 Seventh Street, SW., Washington, DC 20410; telephone: (202) 708-2565, extension 4556.

II. Regulatory Waivers Granted by the Office of Housing

For further information about the following waiver actions, please see the name of the contact person who immediately follows the description of the waiver granted.

• Regulation: 24 CFR 200.54(a).

Project/Activity: W.H. Block Building, Indianapolis, IN; Project Number: 073-35552.

Nature of Requirement: Section 200.54(a) establishes the procedures for a pro-rata disbursement of the mortgagor's front money escrow funds and Federal Housing Administration (FHA) insured mortgage proceeds for the subject property.

Granted By: John C. Weicher, Assistant Secretary for Housing-Federal Housing Commissioner.

Date Granted: April 9, 2002.

Reason Waived: Since the front money escrow is so large, the insured proceeds would not be disbursed for 6 to 8 months after initial endorsement, resulting in payment of extension fees to the investors who purchased the Government National Mortgage Association (GNMA) mortgage-backed securities. Providing a waiver of 24 CFR 200.54(a) will permit the Indianapolis Multifamily Hub to approve a pro-rata disbursement of front money and mortgage proceeds, thereby allowing the mortgagee not to pay GNMA extension fees.

Contact: Michael McCullough, Director, Office of Multifamily Development, Department of Housing and Urban Development, 451 Seventh Street SW., Washington, DC 20410-7000; telephone: (202) 708-1142.

• Regulation: 24 CFR 200.54(a).

Project/Activity: Clyburn Apartments, Denver, CO; Project Number: 101-35555.

Nature of Requirement: Section 200.54(a) establishes the procedures for a pro-rata disbursement of the mortgagor's front money escrow funds and FHA insured mortgage proceeds for the subject project.

Granted By: John C. Weicher, Assistant Secretary for Housing-Federal Housing Commissioner.

Date Granted: May 20, 2002.

Reason Waived: Since the front money escrow is so large, the insured proceeds would not be disbursed for several months, resulting in the payment of extension fees to the investors who purchased the GNMA mortgage-backed securities. Providing a waiver of 24 CFR 200.54(a) will permit the Denver Hub to approve a pro-rata disbursement of front money and mortgage proceeds, thereby allowing the mortgagee not to pay GNMA extension fees.

Contact: Michael McCullough, Director, Office of Multifamily Development, Department of Housing and Urban Development, 451 Seventh Street SW., Washington, DC 20410-7000; telephone: (202) 708-1142.

• Regulation: 24 CFR 200.54(a).

Project/Activity: The Villas at Metro Center Apartments, Nashville, TN; Project Number: 086-35273.

Nature of Requirement: Section 200.54(a) establishes the procedures for a Pro-rata Disbursement of the Mortgagor's Front Money Escrow Funds and FHA insured mortgage proceeds for the subject property.

Granted By: John C. Weicher, Assistant Secretary for Housing-Federal Housing Commissioner.

Date Granted: June 21, 2002.

Reason Waived: Since the front money escrow is so large, the insured proceeds would not be disbursed for several months, resulting in payment of extension fees to the investors who purchased the GNMA mortgage-backed securities. Providing a waiver of 24 CFR 200.54(a) will permit the Nashville Multifamily Program Center to approve a pro-rata disbursement of front money and mortgage proceeds, thereby allowing the mortgagee not to pay GNMA extension fees.

Contact: Michael McCullough, Director, Office of Multifamily Development, Department of Housing and Urban Development, 451 Seventh Street SW., Washington, DC 20410-7000; telephone: (202) 708-1142.

• Regulation: 24 CFR 203.42(a).

Project/Activity: Housing Authority of the City of Spokane (SHA), Spokane, WA.

Nature of Requirement: Section 203.42(a) prohibits the placing of FHA mortgage insurance on any rental property if the property is part of a project, subdivision, or group of rental properties in which the mortgagor has a financial interest in eight or more dwelling units.

Granted By: John C. Weicher, Assistant Secretary for Housing-Federal Housing Commissioner.

Date Granted: May 20, 2002.

Reason Waived: The waiver allowed the Housing Authority of the City of Spokane, Washington, to acquire and sell, using FHA mortgage insurance, sixty newly constructed homes to low- and moderate-income homebuyers under a lease purchase option program called “The Welcome Home Program.”

Contact: Vance T. Morris, Director, Office of Single Family Program Development, Department of Housing and Urban Development, 451 Seventh Street, SW., Washington, DC 20410-7000; telephone: (202) 708-2121.

• Regulation: 24 CFR 203.49(c).

Project/Activity: Mortgagee, First Mortgage Corporation of Diamond Bar, California.

Nature of Requirement: Section 203.49(c) provides that lenders may extend the initial interest rate adjustment dates on ARM loans to any time within a 12 to 18 month window thus rendering the loans eligible for placement in GNMA pools. Ineligibility of the loans for delivery to GNMA would result in financial hardship to the mortgagee and will not have an adverse impact on any mortgagors.

Granted By: John C. Weicher, Assistant Secretary for Housing-Federal Housing Commissioner.

Date Granted: May 29, 2002.

Reason Waived: The Corporation requested extensions of the initial change date for four ARM loans beyond the 12-18 month window period as required by 24 CFR 203.49(c). Approving the waiver enabled the lender to scrutinize the loans and rendered them no harm to the borrowers or the Department.

Contact: Vance T. Morris, Director, Office of Single Family Program Development, Department of Housing and Urban Development, 451 Seventh Street, SW., Washington, DC 20410-7000; telephone (202) 708-2121.

• Regulation: 24 CFR 203.674(b)(1), 24 CFR 203.675, 24 CFR 203.676, 24 CFR 203.677, 24 CFR 203.678.

Project/Activity: Predatory Lending Assistance/St. Ambrose Housing Aid, Baltimore, MD.

Nature of Requirement: Section 203.674(b) (1) specifies that occupants must make timely request for occupied conveyance. Section 203.675 sets out the requirements for adequate notice to occupants of pending acquisition. Section 203.676 identifies the required time frames for occupants to request occupied conveyance. Section 203.677 pertains to time frames for HUD's written decision to allow occupied conveyance. Section 203.678 references time frames for borrowers to request occupied conveyance.

Granted By: John C. Weicher, Assistant Secretary for Housing-Federal Housing Commissioner.

Date Granted: April 16, 2002.

Reason Waived: These regulations were waived in order to allow the Department to accept occupied conveyance of up to 20 properties in Baltimore that were determined to be impacted by predatory lending schemes. Occupied conveyance will facilitate and expedite a direct sale of the properties to St. Ambrose Housing Aid Center which will supervise rehabilitation and resell or lease the properties back to borrowers who were victims of predatory lending.

Contact: Joe McCloskey, Director, Office of Single Family Asset Management, Department of Housing and Urban Development, 451 Seventh Street, SW., Washington, DC 20410-7000; telephone: (202) 708-1672.

• Regulation: 24 CFR 219.220(b).

Project/Activity: Church Manor, Smithfield, VA; Project Number: 051-35012.

Nature of Requirement: Section 219.220(b) governs the repayment of assistance provided under the Flexible Subsidy Program for Troubled Projects prior to May 1, 1996, requiring that assistance paid to project owners must be repaid at the earlier of the expiration of the term of the mortgage, termination of mortgage insurance, prepayment of the mortgage or at sale of the project.

Granted By: John C. Weicher, Assistant Secretary for Housing-Federal Housing Commissioner.

Date Granted: June 10, 2002.

Reason Waived: The Richmond Multifamily Program Center requested waiver of this regulation in order to subordinate the Flexible Subsidy financing following the refinancing/rehabilitation of the subject property through Low Income Housing Tax Credits and non-FHA insured loans. The owner requested permission to make a payment toward the Flexible Subsidy loan and the subordinate the remainder following the refinancing/rehabilitation of the property. If the waiver was not granted, the owner would not have funds to repay the Flexible Subsidy loan and would not be able to close on the new financing package, thereby losing the opportunity to improve this much needed affordable rural housing for the low-income citizens of Smithfield.

Contact: Beverly J. Miller, Director, Office of Asset Management, Department of Housing and Urban Development, 451 Seventh Street, SW, Room 6160, Washington, DC 20410-7000; telephone: (202) 708-3730.

• Regulations: 24 CFR 401.600.

Project/Activity: The following projects requested waivers to the 12-month limit at above-market rents (24 CFR 401.600):

FHA No. | Project name | State
10135289 | Mountain View Place | CO
10135284 | Normandy Gardens | CO
01755027 | Bristol Court Apartments | CT
00035194 | Hunter Pines West Apartments | DC
14035022 | Hilo Val Hala | HI
07335337 | Woodland East II Apartments | IN
08335333 | Pegasus 80 | KY
02335169 | Bel-Air Homes | MA
08435238 | Gotham Apartments | MO
09335087 | El Dorita Apartments | MT
03135175 | Livingston Homes | NJ
03135174 | Somerset Homes | NJ
03135212 | Willow Court Apartments | NJ
01257157 | Parkway Plaza | NY
04235276 | Clinton Circle Apartments | OH
04235185 | Regency Square Apartments | OH
04335228 | Marion Green Apartments | OH
05635040 | San Fernando Apartments | PR
01657007 | New City Apartments | RI
07535271 | Timber Ridge Apartments | WI
04535119 | Wildwood House | WV

Nature of Requirement: Section 401.600 requires that projects be marked down to market rents within 12 months of their first expiration date after January 1, 1998. The intent of this provision is to ensure timely processing of requests for restructuring, and that the properties will not default on their Federal Housing Administration (FHA) insured mortgages during the restructuring process.

Granted By: John C. Weicher, Assistant Secretary for Housing-Federal Housing Commissioner.

Date Granted: April 3, 2002.

Reasons Waived: The projects listed above were not assigned to the participating administrative entities (PAEs) in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
06535336 | Berwood Apartments | MS
01257153 | East 21st Street Apartments | NY
04235330 | Shaker Park Garden Apartments II | OH

Nature of Requirement: Section 401.600 requires that projects be marked down to market rents within 12 months of their first expiration date after January 1, 1998. The intent of this provision is to ensure timely processing of requests for restructuring, and that the properties will not default on their FHA insured mortgages during the restructuring process.

Granted By: John C. Weicher, Assistant Secretary for Housing-Federal Housing Commissioner.

Date Granted: April 25, 2002.

Reasons Waived: The projects listed above were not assigned to the PAEs in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
800002463 | South Bay Villa | CA
800002539 | Sunnyview Villa | CA
800001364 | Dakota Woods II | CA
800001364 | Dakota Woods II | CA
800003075 | Lincoln Square | CO
800003611 | Twin Towers | CT
800030044 | Prestwyck Apts | DE
800005011 | The Pines Apartments | GA
800007311 | Mission Woods Apartments | KS
800007137 | Bonita Terrace | KS
800007702 | Irvin Cobb Apartments | KY
800007738 | Lincoln Village | KY
800000061 | Pegasus 80 | KY
800008152 | Rayville West | LA
800008501 | Garand Court | MA
800009380 | Orchard Mews Apartments | MD
800011601 | Hamilton Apartments | MO
800011936 | Tiffany Rehab | MO
800013100 | Old Farm Apartments | NC
800013100 | Old Farm Apartments | NC
800015008 | Crestview Gardens | NY
800015201 | Green Acres Apartments | NY
800016070 | Schoolhouse Apartments | NY
800015693 | Prospect Arms Apartments | NY
800016158 | South Fulton Rehabilitation | NY
800017340 | Courtyard | OH
800016243 | Ashland Manor | OH
800016911 | McArthur Park | OH
800017336 | Sunset Square | OH
800017388 | Uptown Village Apartments | OH
800017407 | Victorian Heritage | OH
800018190 | Anthracite Apartments | PA
800018697 | Mulberry Tower | PA
800019795 | Swift Creek Apartments | SC
800046298 | Pebble Creek Apartments | TX
800022757 | The Sundowner Apartments | WA
800023231 | Orchard Court Apartments | WI
800023733 | Williamson Towers | WV

Nature of Requirement: Section 401.600 requires that projects be marked down to market rents within 12 months of their first expiration date after January 1, 1998. The intent of this provision is to ensure timely processing of requests for restructuring, and that the properties will not default on their FHA insured mortgages during the restructuring process.

Granted By: John C. Weicher, Assistant Secretary for Housing-Federal Housing Commissioner.

Date Granted: May 30, 2002.

Reasons Waived: The projects listed above were not assigned to the PAEs in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
06235331 | Oak Ridge Apartments | AL
06235332 | Town Creek Apts | AL
06235328 | Westgate Apts | AL
07135408 | Deerfield Woods Phase II | IL
07335378 | Swiss Meadows | IN
07335349 | Willow Glen Apartments | IN
08335314 | Dupont Manual Apartments | KY
08335267 | Lakeland Wesley Village I | KY
05235338 | Sharp Leadenhall II | MD
05335287 | R.M. Wilson Apartments | NC
01257016 | Mohegan Apartments | NY

Nature of Requirement: Section 401.600 requires that projects be marked down to market rents within 12 months of their first expiration date after January 1, 1998. The intent of this provision is to ensure timely processing of requests for restructuring, and that the properties will not default on their FHA insured mortgages during the restructuring process.

Granted By: John C. Weicher, Assistant Secretary for Housing-Federal Housing Commissioner.

Date Granted: June 27, 2002.

Reasons Waived: The projects listed above were not assigned to the PAEs in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

• Regulation: 24 CFR 891.100(d).

Project/Activity: Reggie's Place, Suffolk, VA; Project Number: 051-HD096/VA36-Q001-011.

Nature of Requirement: Section 891.100(d) prohibits amendment of the amount of approved capital advance funds prior to initial closing.

Granted By: John C. Weicher, Assistant Secretary for Housing-Federal Housing Commissioner.

Date Granted: April 3, 2002.

Reason Waived: The project is economically designed, comparable to other similar projects developed in the area, and the sponsor has obtained additional funding from other sources.

Contact: Willie Spearmon, Director, Office of Housing Assistance and Grant Administration, Department of Housing and Urban Development, 451 Seventh Street, SW., Washington, DC 20410, telephone: (202) 708-3000.

• Regulation: 24 CFR 891.100(d).

Project/Activity: Westlake Apartments, Pittsburgh, PA; Project Number: 033-EE101/PA28-S991-005.

Nature of Requirement: Section 891.100(d) prohibits amendment of the amount of approved capital advance funds prior to initial closing.

Granted By: John C. Weicher, Assistant Secretary for Housing-Federal Housing Commissioner.

Date Granted: April 3, 2002.

Reason Waived: The project is economically designed, comparable to other similar projects developed in the area, and the sponsor/owner has exhausted all efforts to secure additional funds from other sources.

Contact: Willie Spearmon, Director, Office of Housing Assistance and Grant Administration, Department of Housing and Urban Development, 451 Seventh Street, SW., Washington, DC 20410; telephone: (202) 708-3000.

• Regulation: 24 CFR 891.100(d).

Project/Activity: Meadow Brook Apartments, San Antonio, TX; Project Number: 115-HD033/TX59-Q001-002.

Nature of Requirement: Section 891.100(d) prohibits amendment of the amount of approved capital advance funds prior to initial closing.

Granted By: John C. Weicher, Assistant Secretary for Housing-Federal Housing Commissioner.

Date Granted: May 16, 2002.

Reason Waived: The project was economically designed, comparable in cost to similar projects, and the sponsor could not contribute any additional funds.

Contact: Willie Spearmon, Director, Office of Housing Assistance and Grant Administration, Department of Housing and Urban Development, 451 Seventh Street, SW., Washington, DC 20410; telephone: (202) 708-3000.

• Regulation: 24 CFR 891.100(d).

Project/Activity: Employment Options, Incorporated, Marlboro, MA; Project Number: 023-HD131/MA06-Q971-012.

Nature of Requirement: Section 891.100(d) prohibits amendment of the amount of approved capital advance funds prior to initial closing.

Granted By: John C. Weicher, Assistant Secretary for Housing-Federal Housing Commissioner.

Date Granted: April 25, 2002.

Reason Waived: The project is economically designed, is comparable to other similar projects developed in the area, and the sponsor has exhausted all efforts to obtain additional funding from other sources.

Contact: Willie Spearmon, Director, Office of Housing Assistance and Grant Administration, Department of Housing and Urban Development, 451 Seventh Street SW., Washington, DC 20410; telephone: (202) 708-3000.

• Regulation: 24 CFR 891.100(d).

Project/Activity: Lakeside Place, Orlando, FL; Project Number: 067-HD068/FL29-Q991-004.

Nature of Requirement: Section 891.100(d) prohibits amendment of the amount of approved capital advance funds prior to initial closing.

Granted By: John C. Weicher, Assistant Secretary for Housing-Federal Housing Commissioner.

Date Granted: April 25, 2002.

Reason Waived: The project is economically designed, is comparable to other similar projects developed in the area, and the sponsor has exhausted all efforts to find additional funds from outside sources.

Contact: Willie Spearmon, Director, Office of Housing Assistance and Grant Administration, Department of Housing and Urban Development, 451 Seventh Street, SW., Washington, DC 20410; telephone: (202) 708-3000.

• Regulation: 24 CFR 891.100(d).

Project/Activity: Checed Warwick, Newport News, VA; Project Number: 051-EE070/VA36-S991-001.

Nature of Requirement: Section 891.100(d) prohibits amendment of the amount of approved capital advance funds prior to initial closing.

Granted By: John C. Weicher, Assistant Secretary for Housing-Federal Housing Commissioner.

Date Granted: April 30, 2002.

Reason Waived: The project was economically designed, comparable to other projects in the area, and the sponsor exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Faye Street Group Home, Chesapeake, VA; Project Number: 051-HD078/VA36-Q991-001.

Nature of Requirement: Section 891.100(d) prohibits amendment of the amount of approved capital advance funds prior to initial closing.

Granted By: John C. Weicher, Assistant Secretary for Housing-Federal Housing Commissioner.

Date Granted: April 30, 2002.

Reason Waived: The project is economically designed, comparable to other similar projects in the area, and the sponsor has exhausted all efforts to obtain additional funding.

Contact: Willie Spearmon, Director, Office of Housing Assistance and Grant Administration, Department of Housing and Urban Development, 451 Seventh Street, SW., Washington, DC 20410; telephone: (202) 708-3000.

• Regulation: 24 CFR 891.100(d).

Project/Activity: Together With Friends, Saginaw, MI; Project Number: 048-HD009/MI28-Q001-002.

Nature of Requirement: Section 891.100(d) prohibits amendment of the amount of approved capital advance funds prior to initial closing.

Granted By: John C. Weicher, Assistant Secretary for Housing-Federal Housing Commissioner.

Date Granted: April 30, 2002.

Reason Waived: The project is economically designed, is comparable to other similar projects in the area, and the owner has exhausted all efforts to obtain additional funding from other sources.

Contact: Willie Spearmon, Director, Office of Housing Assistance and Grant Administration, Department of Housing and Urban Development, 451 Seventh Street SW., Washington, DC 20410; telephone: (202) 708-3000.

• Regulation: 24 CFR 891.100(d).

Project/Activity: Barrett House, Suffolk, VA; Project Number: 051-HD097/VA36-Q001-012.

Nature of Requirement: Section 891.100(d) prohibits amendment of the amount of approved capital advance funds prior to initial closing.

Granted By: John C. Weicher, Assistant Secretary for Housing-Federal Housing Commissioner.

Date Granted: April 30, 2002.

Reason Waived: The project is economically designed, is comparable in cost to similar projects, and the sponsor cannot contribute any additional funds.

Contact: Willie Spearmon, Director, Office of Housing Assistance and Grant Administration, Department of Housing and Urban Development, 451 Seventh Street SW., Washington, DC 20410; telephone: (202) 708-3000.

• Regulation: 24 CFR 891.100(d).

Project/Activity: St. Andrews of Jennings Phase II, St. Louis, MO; Project Number: 085-EE049/MO36-S001-002.

Nature of Requirement: Section 891.100(d) prohibits amendment of the amount of approved capital advance funds prior to initial closing.

Granted By: John C. Weicher, Assistant Secretary for Housing-Federal Housing Commissioner.

Date Granted: May 16, 2002.

Reason Waived: The project is economically designed, is comparable in cost to similar projects, and the sponsor cannot contribute any additional funds.

Contact: Willie Spearmon, Director, Office of Housing Assistance and Grant Administration, Department of Housing and Urban Development, 451 Seventh Street, SW., Washington, DC 20410; telephone: (202) 708-3000.

• Regulation: 24 CFR 891.100(d).

Project/Activity: Guide Texler Homes, Incorporated, Lanham, MD; Project Number: 000-HD048/MD39-Q001-003.

Nature of Requirement: Section 891.100(d) prohibits amendment of the amount of approved capital advance funds prior to initial closing.

Granted By: John C. Weicher, Assistant Secretary for Housing-Federal Housing Commissioner.

Date Granted: May 17, 2002.

Reason Waived: The sponsor exhausted all efforts to obtain additional funding from other sources; the project is economically designed and is comparable to other similar projects developed in the area.

Contact: Willie Spearmon, Director, Office of Housing Assistance and Grant Administration, Department of Housing and Urban Development, 451 Seventh Street SW., Washington, DC 20410; telephone: (202) 708-3000.

• Regulation: 24 CFR 891.100(d).

Project/Activity: Kane Cook Homes, Elgin, IL; Project Number: 071-HD113/IL06-Q991-003.

Nature of Requirement: Section 891.100(d) prohibits amendment of the amount of approved capital advance funds prior to initial closing.

Granted By: John C. Weicher, Assistant Secretary for Housing-Federal Housing Commissioner.

Date Granted: May 17, 2002.

Reason Waived: The project is economically designed, is comparable to other similar projects developed in that area, and the sponsor has exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: The McDowell County Housing Action Network, Gary, WV; Project Number: 045-EE014/WV15-S001-001.

Nature of Requirement: Section 891.100(d) prohibits amendment of the amount of approved capital advance funds prior to initial closing.

Granted By: John C. Weicher, Assistant Secretary for Housing-Federal Housing Commissioner.

Date Granted: May 21, 2002.

Reason Waived: The sponsor exhausted all efforts to obtain additional funding from other sources; the project is economically designed and comparable to other similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: Piney Ridge Apartments, Danville, VA; Project Number: 051-HD077/VA36-Q981-008.

Nature of Requirement: Section 891.100(d) prohibits amendment of the amount of approved capital advance funds prior to initial closing.

Granted By: John C. Weicher, Assistant Secretary for Housing-Federal Housing Commissioner.

Date Granted: May 22, 2002.

Reason Waived: The project is economically designed, is similar in construction to other projects developed in the area, and the sponsor has no other resources to contribute additional funds.

Contact: Willie Spearmon, Director, Office of Housing Assistance and Grant Administration, Department of Housing and Urban Development, 451 Seventh Street, SW., Washington, DC 20410; telephone: (202) 708-3000.

• Regulation: 24 CFR 891.100(d).

Project/Activity: National Church Residences of Manhattan II, Manhattan, KS; Project Number: 102-EE024/KS16-S001-002.

Nature of Requirement: Section 891.100(d) prohibits amendment of the amount of approved capital advance funds prior to initial closing.

Granted By: John C. Weicher, Assistant Secretary for Housing-Federal Housing Commissioner.

Date Granted: May 22, 2002.

Reason Waived: The project is economically designed and comparable to other similar projects developed in the area, and the sponsor has exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d).

Project/Activity: Concerned Care, Kansas City, MO; Project Number: 084-HD033/MO16-Q001-001.

Nature of Requirement: Section 891.100(d) prohibits amendment of the amount of approved capital advance funds prior to initial closing.

Granted By: John C. Weicher, Assistant Secretary for Housing-Federal Housing Commissioner.

Date Granted: June 16, 2002.

Reason Waived: The project is economically designed, comparable to other similar projects developed in the area, and the sponsor cannot contribute any additional funds.

Contact: Willie Spearmon, Director, Office of Housing Assistance and Grant Administration, Department of Housing and Urban Development, 451 Seventh Street, SW., Washington, DC 20410; telephone: (202) 708-3000.

• Regulation: 24 CFR 891.100(d).

Project/Activity: Meadow Park, Sarasota, FL; Project Number: 067-EE106/FL29-S001-001.

Nature of Requirement: Section 891.100(d) prohibits amendment of the amount of approved capital advance funds prior to initial closing.

Granted By: John C. Weicher, Assistant Secretary for Housing-Federal Housing Commissioner.

Date Granted: June 20, 2002.

Reason Waived: The project is economically designed, comparable in cost to similar projects, and the sponsor cannot contribute any additional funds.

Contact: Willie Spearmon, Director, Office of Housing Assistance and Grant Administration, Department of Housing and Urban Development, 451 Seventh Street, SW., Washington, DC 20410; telephone: (202) 708-3000.

• Regulation: 24 CFR 891.100(d).

Project/Activity: Elm Street Home, Webster, IA; Project Number: 074-HD022/IA05-Q001-001.

Nature of Requirement: Section 891.100(d) prohibits amendment of the amount of approved capital advance funds prior to initial closing.

Granted By: John C. Weicher, Assistant Secretary for Housing-Federal Housing Commissioner.

Date Granted: June 26, 2002.

Reason Waived: The project is economically designed, comparable to other similar projects developed in the area, and the sponsor cannot contribute any additional funds.

Contact: Willie Spearmon, Director, Office of Housing Assistance and Grant Administration, Department of Housing and Urban Development, 451 Seventh Street, SW., Washington, DC 20410; telephone: (202) 708-3000.

• Regulation: 24 CFR 891.100(d).

Project/Activity: Mental Health Care, Inc., Brandon, FL; Project Number: 067-HD066/FL29-Q991-011.

Nature of Requirement: Section 891.100(d) prohibits amendment of the amount of approved capital advance funds prior to initial closing.

Granted By: John C. Weicher, Assistant Secretary for Housing-Federal Housing Commissioner.

Date Granted: June 26, 2002.

Reason Waived: The project is economically designed, comparable to other similar projects developed in the area, and the sponsor has contributed to the project.

Contact: Willie Spearmon, Director, Office of Housing Assistance and Grant Administration, Department of Housing and Urban Development, 451 Seventh Street, SW., Washington, DC 20410; telephone: (202) 708-3000.

• Regulation: 24 CFR 891.100(d).

Project/Activity: Village Apartments, Rantoul, IL; Project Number: 072-HD111/IL06-Q001-001.

Nature of Requirement: Section 891.100(d) prohibits amendment of the amount of approved capital advance funds prior to initial closing.

Granted By: John C. Weicher, Assistant Secretary for Housing-Federal Housing Commissioner.

Date Granted: June 26, 2002.

Reason Waived: The project is economically designed, comparable to other similar projects developed in the jurisdiction, and the sponsor has exhausted all efforts to obtain additional funding from other sources.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Thomaston VOA Elderly Housing, Bath, ME; Project Number: 024-EE038/ME36-S971-003.

Nature of Requirement: Section 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: April 16, 2002.

Reason Waived: The project is economically designed and comparable to other similar projects developed in your jurisdiction. Further $71,388 in additional funding is being provided through the Maine State Housing Authority. The sponsor has exhausted all means to find the funds through other sources. The project has also incurred significant delays associated with the need to change sites several times.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Manor House, Austin, TX; Project Number: 115-HD030/TX59-Q991-003.

Nature of Requirement: Section 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: April 16, 2002.

Reason Waived: The project is economically designed, is comparable to other similar projects developed in the jurisdiction, and the sponsor has exhausted all efforts to obtain additional funding from other sources. Also, delays were caused while the owner located additional funds for construction and resolved legal issues involving the site.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: The Pavilion at Immaculate Conception, Bronx, NY; Project Number: 012-EE247/NY36-S981-003.

Nature of Requirement: Section 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: April 23, 2002.

Reason Waived: Additional time was needed to find another general contractor, and determine a feasible construction budget. The project is economically designed, is comparable to other projects developed in the area, and the sponsor has exhausted all efforts to find additional funds from other sources.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Agua Azul, Albuquerque, NM; Project Number: 116-HD013/NM16-Q991-002.

Nature of Requirement: Section 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: April 25, 2002.

Reason Waived: The project is economically designed, is comparable to other projects developed in the area, and the sponsor has exhausted all efforts to obtain additional funding from other sources other than the $250,000 it is receiving from the City of Albuquerque in HOME funds. Additional time is necessary to issue the firm commitment and arrange for the initial closing.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Gene Gilbert Manor, Albuquerque, NM; Project Number: 116-HD011/NM16-Q981-001.

Nature of Requirement: Section 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: April 30, 2002.

Reason Waived: The sponsor had to change contractors because the original contractor was unable to obtain a bond. The project is economically designed, is comparable to other similar projects developed in the area, and the Sponsor has exhausted all efforts to obtain additional funding from outside sources.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Santa Fe Homeward Bound Apartments, Santa Fe, NM; Project Number: 116-HD014/NM16-Q991-003.

Nature of Requirement: Section 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: April 30, 2002.

Reason Waived: Additional time is needed for the firm commitment application to be processed and the initial closing to take place. The project is economically designed, is comparable to other projects developed in the area, and the sponsor has exhausted all efforts to find additional funds from other sources.

Contact: Willie Spearmon, Director, Office of Housing Assistance and Grant Administration, Department of Housing and Urban Development, 451 Seventh Street, SW., Washington, DC 20410; telephone: (202) 708-3000.

• Regulation: 24 CFR 891.165.

Project/Activity: St. Boniface Gardens, Inc., Pembroke Pines, FL; Project Number: 066-EE074/FL29-S991-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 2, 2002.

Reason Waived: There was an unexpected delay in getting a plat recorded.

Contact: Willie Spearmon, Director, Office of Housing Assistance and Grant Administration, Department of Housing and Urban Development, 451 Seventh Street, SW., Washington, DC 20410; telephone: (202) 708-3000.

• Regulation: 24 CFR 891.165.

Project/Activity: Hale O Man'o Lana Hou II, Maui, HI; Project Number: 140-HD015/HI10-Q961-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 3, 2002.

Reason Waived: The project experienced delays in securing approval for a partial release of the Section 202/8 mortgage on the existing site and the lengthy process for the County of Maui to approve the subdivision of the site, and an amendment of the ground lease.

Contact: Willie Spearmon, Director, Office of Housing Assistance and Grant Administration, Department of Housing and Urban Development, 451 Seventh Street, SW., Washington, DC 20410; telephone: (202) 708-3000.

• Regulation: 24 CFR 891.165.

Project/Activity: AHEPA 156 Apartments, Canonsburg, Washington County, PA; Project Number: 033-EE098/PA28-S991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 3, 2002.

Reason Waived: The project has incurred delays due to the local municipality's preference for relocating the storm detention area from what was originally proposed on the architectural drawings.

Contact: Willie Spearmon, Director, Office of Housing Assistance and Grant Administration, Department of Housing and Urban Development, 451 Seventh Street, SW., Washington, DC 20410; telephone: (202) 708-3000.

• Regulation: 24 CFR 891.165.

Project/Activity: Abraham Lincoln Center, Chicago, IL; Project Number: 071-HD095/IL06-Q961-010.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 8, 2002.

Reason Waived: The owner needed additional time to obtain building permits, solidify secondary financing, and resolve site and design issues.

Contact: Willie Spearmon, Director, Office of Housing Assistance and Grant Administration, Department of Housing and Urban Development, 451 Seventh Street, SW., Washington, DC 20410; telephone: (202) 708-3000.

• Regulation: 24 CFR 891.165.

Project/Activity: NC Orange Senior Housing Corporation, Orange, Essex County, NJ; Project Number: 031-EE048/NJ39-S981-005.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: April 16, 2002.

Reason Waived: The project has incurred delays due to a change in the project architect, revisions to the project's design and plans, and time needed by the Federal Home Loan Bank to reissue documentation (destroyed in the attack on the World Trade Center) of the $250,000 in subordinate financing being provided to the project.

Contact: Willie Spearmon, Director, Office of Housing Assistance and Grant Administration, Department of Housing and Urban Development, 451 Seventh Street, SW., Washington, DC 20410; telephone: (202) 708-3000.

• Regulation: 24 CFR 891.165.

Project/Activity: Lalo Guerrero Barrio Viejo, Tucson, AZ; Project Number: 123-EE073/AZ20-S991-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 16, 2002.

Reason Waived: The sponsor/owner has experienced lengthy delays due to lawsuits and protests from third parties regarding the development of the project, and unexpected changes involving the architect and project design.

Contact: Willie Spearmon, Director, Office of Housing Assistance and Grant Administration, Department of Housing and Urban Development, 451 Seventh Street, SW., Washington, DC 20410; telephone: (202) 708-3000.

• Regulation: 24 CFR 891.165.

Project/Activity: Presbyterian Home at Franklin Township, Franklin Township, NJ; Project Number: 031-EE045/NJ39-S971-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 16, 2002.

Reason Waived: The sponsor needed additional time to satisfy the needs of the zoning board and community prior to obtaining approval of the design and site.

Contact: Willie Spearmon, Director, Office of Housing Assistance and Grant Administration, Department of Housing and Urban Development, 451 Seventh Street, SW., Washington, DC 20410; telephone: (202) 708-3000.

• Regulation: 24 CFR 891.165.

Project/Activity: Union Seniors, Los Angeles, CA; Project Number: 122-EE133/CA16-S981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 16, 2002.

Reason Waived: The project has experienced inordinate delays due to complications arising from the plan check process of the City of Los Angeles with regard to legal unit count, and the subsequent permission of the planned rehabilitated units.

Contact: Willie Spearmon, Director, Office of Housing Assistance and Grant Administration, Department of Housing and Urban Development, 451 Seventh Street, SW., Washington, DC 20410; telephone: (202) 708-3000.

• Regulation: 24 CFR 891.165.

Project/Activity: Stanton Accessible Apartments, Stanton, CA; Project Number: 143-HD008/CA43-Q981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 17, 2002.

Reason Waived: The project has incurred delays due to neighborhood opposition, and to the amount of time it took to get a zoning variance request approved to reduce the parking requirements.

Contact: Willie Spearmon, Director, Office of Housing Assistance and Grant Administration, Department of Housing and Urban Development, 451 Seventh Street, SW., Washington, DC 20410; telephone: (202) 708-3000.

• Regulation: 24 CFR 891.165.

Project/Activity: AHEPA National Housing Corporation, Cheektowaga Town, NY; Project Number: 014-EE078/NY06-S941-017.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 17, 2002.

Reason Waived: The development of the project incurred inordinate delays due to lengthy litigation.

Contact: Willie Spearmon, Director, Office of Housing Assistance and Grant Administration, Department of Housing and Urban Development, 451 Seventh Street, SW., Washington, DC 20410; telephone: (202) 708-3000.

• Regulation: 24 CFR 891.165.

Project/Activity: Jefferson Elderly Housing, Jefferson, WI; Project Number: 075-EE081/WI39-S991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 19, 2002.

Reason Waived: The project has incurred delays attributable to site problems and additional time is needed for the project architect to cure deficiencies in the firm commitment application.

Contact: Willie Spearmon, Director, Office of Housing Assistance and Grant Administration, Department of Housing and Urban Development, 451 Seventh Street, SW., Washington, DC 20410; telephone: (202) 708-3000.

• Regulation: 24 CFR 891.165.

Project/Activity: Cottonwood Manor VI, Cottonwood, AZ; Project Number: 123-EE069/AZ20-S991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 19, 2002.

Reason Waived: The project has experienced delays resulting from obtaining local approval of the design, and the need to redesign the roadway when the adjacent property owner declined to grant a required right-of-way.

Contact: Willie Spearmon, Director, Office of Housing Assistance and Grant Administration, Department of Housing and Urban Development, 451 Seventh Street, SW., Washington, DC 20410; telephone: (202) 708-3000.

• Regulation: 24 CFR 891.165.

Project/Activity: Cinnaminson Consumer Home, Cinnaminson, NJ; Project Number: 035-HD044/NJ39-Q991-008.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 22, 2002.

Reason Waived: Additional time is needed for HUD to process the firm commitment application in order for the project to reach initial closing.

Contact: Willie Spearmon, Director, Office of Housing Assistance and Grant Administration, Department of Housing and Urban Development, 451 Seventh Street, SW., Washington, DC 20410; telephone: (202) 708-3000.

• Regulation: 24 CFR 891.165.

Project/Activity: Berlin Housing, Berlin, WI; Project Number: 075-HD055/WI39-Q981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 23, 2002.

Reason Waived: Additional time is needed for the closing documents to be submitted and processed.

Contact: Willie Spearmon, Director, Office of Housing Assistance and Grant Administration, Department of Housing and Urban Development, 451 Seventh Street, SW., Washington, DC 20410; telephone: (202) 708-3000.

• Regulation: 24 CFR 891.165.

Project/Activity: Judson Terrace Lodge, San Luis Obispo, CA; Project Number: 122-EE163/CA16-S991-014.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 23, 2002.

Reason Waived: The sponsor/owner is negotiating with the city to resolve their responsibility for the city's “water-offset” rule and ongoing negotiations with adjacent property owners concerning the project design.

Contact: Willie Spearmon, Director, Office of Housing Assistance and Grant Administration, Department of Housing and Urban Development, 451 Seventh Street, SW., Washington, DC 20410; telephone: (202) 708-3000.

• Regulation: 24 CFR 891.165.

Project/Activity: St. Timothy Manor, Cleveland, OH; Project Number: 042-EE111/OH12-S991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 23, 2002.

Reason Waived: The sponsor was forced to seek a site change due to local neighborhood opposition.

Contact: Willie Spearmon, Director, Office of Housing Assistance and Grant Administration, Department of Housing and Urban Development, 451 Seventh Street SW., Washington, DC 20410; telephone: (202) 708-3000.

• Regulation: 24 CFR 891.165.

Project/Activity: St. Jude Manor, Norton, OH, Project Number: 042-EE112/OH12-S991-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 23, 2002.

Reason Waived: Sponsor was forced to seek two site changes due to local neighborhood opposition.

Contact: Willie Spearmon, Director, Office of Housing Assistance and Grant Administration, Department of Housing and Urban Development, 451 Seventh Street, SW., Washington, DC 20410; telephone: (202) 708-3000.

• Regulation: 24 CFR 891.165.

Project/Activity: Mt. Gilead Estates, Mt. Gilead, OH; Project Number: 043-HD028/OH16-Q991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 25, 2002.

Reason Waived: The project was delayed while the owner/sponsor addressed budget overruns and site issues.

Contact: Willie Spearmon, Director, Office of Housing Assistance and Grant Administration, Department of Housing and Urban Development, 451 Seventh Street, SW., Washington, DC 20410; telephone: (202) 708-3000.

• Regulation: 24 CFR 891.165.

Project/Activity: PROCAP Housing, Providence, RI; Project Number: 016-HD030/RI-43-Q991-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 25, 2002.

Reason Waived: Significant time was expended in locating an alternate site, the Sponsor/Owner is currently awaiting approval of a zoning variance, and the architect needs additional time to finalize the plans.

Contact: Willie Spearmon, Director, Office of Housing Assistance and Grant Administration, Department of Housing and Urban Development, 451 Seventh Street, SW., Washington, DC 20410; telephone: (202) 708-3000.

• Regulation: 24 CFR 891.165.

Project/Activity: Lytle Trace, Williamsburg, OH; Project Number: 046-EE050/OH10-S991-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 25, 2002.

Reason Waived: Project has been delayed while the owner/sponsor sought additional funding.

Contact: Willie Spearmon, Director, Office of Housing Assistance and Grant Administration, Department of Housing and Urban Development, 451 Seventh Street, SW., Washington, DC 20410; telephone: (202) 708-3000.

• Regulation: 24 CFR 891.165.

Project/Activity: Morrow Woods, Mt. Gilead, OH; Project Number: 043-EE068/OH16-S991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 25, 2002.

Reason Waived: The project was delayed while the owner/sponsor sought additional funding.

Contact: Willie Spearmon, Director, Office of Housing Assistance and Grant Administration, Department of Housing and Urban Development, 451 Seventh Street, SW., Washington, DC 20410; telephone: (202) 708-3000.

• Regulation: 24 CFR 891.165.

Project/Activity: Luther Ridge, Middletown, CT; Project Number: 017-EE053/CT26-S991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 25, 2002.

Reason Waived: The project was delayed because the design had to be changed and the civil engineering firm had to be replaced.

Contact: Willie Spearmon, Director, Office of Housing Assistance and Grant Administration, Department of Housing and Urban Development, 451 Seventh Street, SW., Washington, DC 20410; telephone: (202) 708-3000.

• Regulation: 24 CFR 891.165.

Project/Activity: Inglis Gardens at Evesham, Evesham Township, NJ; Project Number: 035-HD040/NJ39-Q981-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 25, 2002.

Reason Waived: Additional time is needed for the Township of Evesham to issue the building permits.

Contact: Willie Spearmon, Director, Office of Housing Assistance and Grant Administration, Department of Housing and Urban Development, 451 Seventh Street, SW., Washington, DC 20410; telephone: (202) 708-3000.

• Regulation: 24 CFR 891.165.

Project/Activity: Howard Street Senior Apartments, San Francisco, CA; Project Number: 121-EE121/CA39-S981-014.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 25, 2002.

Reason Waived: The project has experienced lengthy delays due to the complexity of negotiating agreements between diverse stakeholders concerning some predevelopment financing, coordinating inter-agency approvals, and addressing complex community acceptance issues.

Contact: Willie Spearmon, Director, Office of Housing Assistance and Grant Administration, Department of Housing and Urban Development, 451 Seventh Street, SW., Washington, DC 20410; telephone: (202) 708-3000.

• Regulation: 24 CFR 891.165.

Project/Activity: Accessible Space, Inc., Florence, AL; Project Number: 062-HD043/AL09-Q991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 25, 2002.

Reason Waived: The sponsor is currently addressing the screening deficiencies found in the application, and additional time is needed to review the application and issue the Firm Commitment.

Contact: Willie Spearmon, Director, Office of Housing Assistance and Grant Administration, Department of Housing and Urban Development, 451 Seventh Street, SW., Washington, DC 20410; telephone: (202) 708-3000.

• Regulation: 24 CFR 891.165.

Project/Activity: Mental Health Care, Inc., Brandon, Hillsborough County, FL; Project Number: 067-HD066/FL29-Q991-011.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: April 25, 2002.

Reason Waived: The project has incurred delays while the sponsor resolved site control and cost overrun issues.

Contact: Willie Spearmon, Director, Office of Housing Assistance and Grant Administration, Department of Housing and Urban Development, 451 Seventh Street, SW., Washington, DC 20410; telephone: (202) 708-3000.

• Regulation: 24 CFR 891.165.

Project/Activity: Orlando VOA Elderly Housing, Inc. Orlando, Orange County, FL; Project Number: 067-EE104/FL29-S991-004.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: April 25, 2002.

Reason Waived: The sponsor encountered difficulty in obtaining local approval for a revised plot of the property, and additional time is needed for HUD's review of the closing documents.

Contact: Willie Spearmon, Director, Office of Housing Assistance and Grant Administration, Department of Housing and Urban Development, 451 Seventh Street, SW., Washington, DC 20410; telephone: (202) 708-3000.

• Regulation: 24 CFR 891.165.

Project/Activity: Rhinelander Disable Housing, Rhinelander, WI, OH; Project Number: 075-HD063/WI39-Q991-004.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: April 29, 2002.

Reason Waived: The Sponsor has incurred delays in securing an acceptable site, and additional time is needed for the site to be properly zoned.

Contact: Willie Spearmon, Director, Office of Housing Assistance and Grant Administration, Department of Housing and Urban Development, 451 Seventh Street, SW., Washington, DC 20410; telephone: (202) 708-3000.

• Regulation: 24 CFR 891.165.

Project/Activity: Lakeside Place, Orlando, Orange County, FL; Project Number: 067-HD068/FL29-Q991-004.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: April 30, 2002.

Reason Waived: The project has incurred delays while the sponsor resolved site control and local issues.

Contact: Willie Spearmon, Director, Office of Housing Assistance and Grant Administration, Department of Housing and Urban Development, 451 Seventh Street, SW., Washington, DC 20410; telephone: (202) 708-3000.

• Regulation: 24 CFR 891.165.

Project/Activity: Valentino Square Apartments, West Allis, WI; Project Number: 075-EE077/WI39-S981-006.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: April 30, 2002.

Reason Waived: The project has incurred delays while the owner resolved a funding problem, and while HUD reviewed their request to combine this project with another Section 202 project.

Contact: Willie Spearmon, Director, Office of Housing Assistance and Grant Administration, Department of Housing and Urban Development, 451 Seventh Street, SW., Washington, DC 20410; telephone: (202) 708-3000.

• Regulation: 24 CFR 891.165.

Project/Activity: Dr. Charles H. Moore—Westminster Arms, Los Angles, CA; Project Number: 122-EE143/CA16-S981-012.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: April 30, 2002.

Reason Waived: The project has incurred inordinate delays due to site and zoning issues, and the city's lengthy process for reviewing and approving the project design.

Contact: Willie Spearmon, Director, Office of Housing Assistance and Grant Administration, Department of Housing and Urban Development, 451 Seventh Street, SW., Washington, DC 20410; telephone: (202) 708-3000.

• Regulation: 24 CFR 891.165.

Project/Activity: Honoka'a Knolls Senior Apartments, Honoka‘a, HI; Project Number: 140-EE020/HI10-S991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 3, 2002.

Reason Waived: The sponsor is requesting approval to combine two Section 202 projects; and additional time is needed to finalize the drawings, complete the processing of the Firm Commitment Application, close the project, and start construction.

Contact: Willie Spearmon, Director, Office of Housing Assistance and Grant Administration, Department of Housing and Urban Development, 451 Seventh Street, SW., Washington, DC 20410; telephone: (202) 708-3000.

• Regulation: 24 CFR 891.165.

Project/Activity: Honoka'a Knolls Senior Apartments II, Honoka'a, HI; Project Number: 140-EE023/HI10-S001-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 3, 2002.

Reason Waived: The sponsor is requesting approval to combine two Section 202 projects; and additional time is needed to finalize the drawings, complete the processing of the firm commitment application, close the project, and start construction.

Contact: Willie Spearmon, Director, Office of Housing Assistance and Grant Administration, Department of Housing and Urban Development, 451 Seventh Street, SW., Washington, DC 20410; telephone: (202) 708-3000.

• Regulation: 24 CFR 891.165.

Project/Activity: The Lambs Farm of Green Oaks, Green Oaks, IL; Project Number: 071-HD115/IL06-Q991-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 8, 2002.

Reason Waived: The project was delayed while the sponsor obtained final approval of the project, and funding for the services from the Illinois Department of Human Services.

Contact: Willie Spearmon, Director, Office of Housing Assistance and Grant Administration, Department of Housing and Urban Development, 451 Seventh Street, SW., Washington, DC 20410; telephone: (202) 708-3000.

• Regulation: 24 CFR 891.165.

Project/Activity: Ft. Washington Adventist Apartments, Oxon Hill, MD; Project Number: 000-EE045/MD39-S971-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 10, 2002.

Reason Waived: The project was delayed due to the local governmental approval of the water/sewer allocation, untimely issuance of building permits, and unresolved zoning issues.

Contact: Willie Spearmon, Director, Office of Housing Assistance and Grant Administration, Department of Housing and Urban Development, 451 Seventh Street, SW., Washington, DC 20410; telephone: (202) 708-3000.

• Regulation: 24 CFR 891.165.

Project/Activity: YMCA of Metropolitan Chicago, Chicago, IL; Project Number: 071-EE141/IL06-S981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 10, 2002.

Reason Waived: The sponsor had to change sites and additional time was needed for approval requirements of the new site.

Contact: Willie Spearmon, Director, Office of Housing Assistance and Grant Administration, Department of Housing and Urban Development, 451 Seventh Street, SW., Washington, DC 20410; telephone: (202) 708-3000.

• Regulation: 24 CFR 891.165.

Project/Activity: La Playa Apartments, San Francisco, CA; Project Number: 121-HD065/CA39-Q981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 16, 2002.

Reason Waived: The project incurred delays in getting design documents through the City of San Francisco’s plan review process and the owner was attempting to secure additional funds for construction.

Contact: Willie Spearmon, Director, Office of Housing Assistance and Grant Administration, Department of Housing and Urban Development, 451 Seventh Street, SW., Washington, DC 20410; telephone: (202) 708-3000.

• Regulation: 24 CFR 891.165.

Project/Activity: Nanaikeola Senior Apartments, Waianae, HI; Project Number: 140-EE019/HI10-S991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 16, 2002.

Reason Waived: The Sponsor needs additional time to finalize their drawings, complete the Firm Commitment application, and close the project.

Contact: Willie Spearmon, Director, Office of Housing Assistance and Grant Administration, Department of Housing and Urban Development, 451 Seventh Street, SW., Washington, DC 20410; telephone: (202) 708-3000.

• Regulation: 24 CFR 891.165.

Project/Activity: Accessible Space, Inc., Birmingham, IL; Project Number: 062-HD041/AL09-Q981-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 7, 2002.

Reason Waived: The owner/sponsor needs additional time to resolve environmental problems and zoning issues relative to the new site. Additional time is also needed for the owner/sponsor to prepare and HUD to review the firm commitment application.

Contact: Willie Spearmon, Director, Office of Housing Assistance and Grant Administration, Department of Housing and Urban Development, 451 Seventh Street, SW., Washington, DC 20410; telephone: (202) 708-3000.

• Regulation: 24 CFR 891.165.

Project/Activity: Stanton Accessible Apartments, Stanton, CA; Project Number: 143-HD008/CA43-Q981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 13, 2002.

Reason Waived: The project was delayed due to neighborhood opposition to the project and additional time for the Sponsor to secure community involvement and revise the design.

Contact: Willie Spearmon, Director, Office of Housing Assistance and Grant Administration, Department of Housing and Urban Development, 451 Seventh Street, SW., Washington, DC 20410; telephone: (202) 708-3000.

• Regulation: 24 CFR 891.165.

Project/Activity: Hayworth Housing, Los Angeles, CA; Project Number: 122-HD118/CA16-Q991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 13, 2002.

Reason Waived: The project was delayed due to the need for a full seismic retrofit, consultation with a structural engineer on the new design, and the additional time taken for the cost to be agreed upon.

Contact: Willie Spearmon, Director, Office of Housing Assistance and Grant Administration, Department of Housing and Urban Development, 451 Seventh Street, SW., Washington, DC 20410; telephone: (202) 708-3000.

• Regulation: 24 CFR 891.165.

Project/Activity: Evergreen Village Senior Apartments, Everett, WA; Project Number: 127-EE024/WA19-S991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 16, 2002.

Reason Waived: The project has incurred delays as a result of changes in the county building codes during the past year, conflicting zoning and building requirements, and the local requirement for completion of certain work prior to construction of the Section 202 project.

Contact: Willie Spearmon, Director, Office of Housing Assistance and Grant Administration, Department of Housing and Urban Development, 451 Seventh Street, SW., Washington, DC 20410; telephone: (202) 708-3000.

• Regulation: 24 CFR 891.165.

Project/Activity: HFL Ashtabula Homes, Pasadena, CA; Project Number: 122-HD117/CA16-Q991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 16, 2002.

Reason Waived: Local opposition caused multiple delays in securing the necessary city planning approval for the project.

Contact: Willie Spearmon, Director, Office of Housing Assistance and Grant Administration, Department of Housing and Urban Development, 451 Seventh Street, SW., Washington, DC 20410; telephone: (202) 708-3000.

• Regulation: 24 CFR 891.165.

Project/Activity: Accessible Space, Inc., Florence, AL; Project Number: 062-HD043/AL09-Q991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 16, 2002.

Reason Waived: The sponsor recently addressed the deficiencies within the firm commitment application and additional time is needed to process and issue the firm commitment and to reach initial closing on the development.

Contact: Willie Spearmon, Director, Office of Housing Assistance and Grant Administration, Department of Housing and Urban Development, 451 Seventh Street, SW., Washington, DC 20410; telephone: (202) 708-3000.

• Regulation: 24 CFR 891.165.

Project/Activity: Palms Manor, Los Angeles, CA; Project Number: 122-HD113/CA16-Q981-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 18, 2002.

Reason Waived: The sponsor had to obtain a swing loan to purchase the site and it took several months for the newly formed owner organization to receive their tax exemption status.

Contact: Willie Spearmon, Director, Office of Housing Assistance and Grant Administration, Department of Housing and Urban Development, 451 Seventh Street, SW., Washington, DC 20410; telephone: (202) 708-3000.

• Regulation: 24 CFR 891.165.

Project/Activity: Cantebria Senior Homes, Encinitas, CA; Project Number: 129-EE021/CA33-S991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 18, 2002.

Reason Waived: The project was delayed due to an extended community design and outreach process that was necessary for obtaining neighborhood support, and the additional 60-day review process taken by the city to approve entitlement for the site.

Contact: Willie Spearmon, Director, Office of Housing Assistance and Grant Administration, Department of Housing and Urban Development, 451 Seventh Street, SW., Washington, DC 20410; telephone: (202) 708-3000.

• Regulation: 24 CFR 891.165.

Project/Activity: Helms Manor, Los Angeles, CA; Project Number: 122-HD115/CA16-Q981-007.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: June 18, 2002.

Reason Waived: The sponsor had to obtain a swing loan to purchase the site, and it took several months for the newly formed owner organization to receive their tax exemption status.

Contact: Willie Spearmon, Director, Office of Housing Assistance and Grant Administration, Department of Housing and Urban Development, 451 Seventh Street, SW., Washington, DC 20410; telephone: (202) 708-3000.

• Regulation: 24 CFR 891.165.

Project/Activity: West Street, Needham, MA; Project Number: 023-HD138/MA06-Q981-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 20, 2002.

Reason Waived: Additional time is needed to proceed to initial closing.

Contact: Willie Spearmon, Director, Office of Housing Assistance and Grant Administration, Department of Housing and Urban Development, 451 Seventh Street, SW., Washington, DC 20410; telephone: (202) 708-3000.

• Regulation: 24 CFR 891.165.

Project/Activity: Valentine Court III, Santa Maria, CA; Project Number: 122-HD129/CA16-Q991-013.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 26, 2002.

Reason Waived: The project was delayed while the sponsor was finalizing the initial design development plans, obtaining a conditional use permit from the City of Santa Maria, and securing additional funding sources from the California State Department of Housing and Community Development.

Contact: Willie Spearmon, Director, Office of Housing Assistance and Grant Administration, Department of Housing and Urban Development, 451 Seventh Street, SW., Washington, DC 20410; telephone: (202) 708-3000.

• Regulation: 24 CFR 891.165.

Project/Activity: G.R. Vale Home, Huntington, WV; Project Number: 045-HD030/WV15-Q991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 26, 2002.

Reason Waived: An alternate site had to be obtained, the size of the structure to be rehabilitated on the new site became an issue that was recently resolved after numerous meetings, the owner is currently revising the firm commitment application, and additional time is needed for submission and review of closing documents.

Contact: Willie Spearmon, Director, Office of Housing Assistance and Grant Administration, Department of Housing and Urban Development, 451 Seventh Street, SW., Washington, DC 20410; telephone: (202) 708-3000.

• Regulation: 24 CFR 891.165.

Project/Activity: VHH-JG Commons Senior Apartments, Vashon, WA; Project Number: 127-EE026/WA19-S991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 26, 2002.

Reason Waived: Additional time was needed for the sponsor to meet all the secondary funding requirements imposed by the state and local agencies providing the secondary financing.

Contact: Willie Spearmon, Director, Office of Housing Assistance and Grant Administration, Department of Housing and Urban Development, 451 Seventh Street, SW., Washington, DC 20410; telephone: (202) 708-3000.

• Regulation: 24 CFR 891.165.

Project/Activity: Lakeside Place, Orlando, Orange County, FL; Project Number: 067-HD068/FL29-Q991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 26, 2002.

Reason Waived: The project experienced delays due to site control problems, and issues beyond the sponsor's control.

Contact: Willie Spearmon, Director, Office of Housing Assistance and Grant Administration, Department of Housing and Urban Development, 451 Seventh Street, SW., Washington, DC 20410; telephone: (202) 708-3000.

• Regulation: 24 CFR 891.165.

Project/Activity: St. Isaac Jogues, Wheatfield, NY; Project Number: 014-EE191/NY06-S991-009.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 27, 2002.

Reason Waived: The original contractor unexpectedly withdrew from the project, forcing the owner to obtain another contractor and re-negotiate the costs.

Contact: Willie Spearmon, Director, Office of Housing Assistance and Grant Administration, Department of Housing and Urban Development, 451 Seventh Street, SW., Washington, DC 20410; telephone: (202) 708-3000.

• Regulation: 24 CFR 891.165.

Project/Activity: St. Peter Claver Courts, Country Club Hills, IL; Project Number: 071-EE152/IL06-S991-011.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 28, 2002.

Reason Waived: The sponsor was forced to change sites several times and the new site still had some unresolved environmental issues.

Contact: Willie Spearmon, Director, Office of Housing Assistance and Grant Administration, Department of Housing and Urban Development, 451 Seventh Street, SW., Washington, DC 20410; telephone: (202) 708-3000.

• Regulation: 24 CFR 891.205.

Project/Activity: Southbury Senior Housing, Southbury, CT; Project Number: 017-EE068/CT26-S011-004.

Nature of Requirement: Single-Purpose Corporation. Section 891.205 requires that Section 202 project owners be single-purpose corporations.

Granted By: John C. Weicher, Assistant Secretary for Housing-Federal Housing Commissioner.

Date Granted: April 8, 2002.

Reason Waived: The project will be built adjacent to the sponsor's existing Section 202 project and one owner-entity would promote greater service provision as well as coordinated administrative maintenance.

Contact: Willie Spearmon, Director, Office of Housing Assistance and Grant Administration, Department of Housing and Urban Development, 451 Seventh Street, SW., Washington, DC 20410; telephone: (202) 708-3000.

• Regulation: 24 CFR 891.310(b)(1) and (b)(2).

Project/Activity: TWB Residential Opportunities II, Port Jefferson Station, NY; Project Number: 012-HD093/NY36-Q991-004.

Nature of Requirement: HUD's regulation at 24 CFR 891.310(b)(1) and (b)(2) requires that all entrances, common areas, units to be occupied by resident staff, and amenities must be readily accessible to and usable by persons with disabilities.

Granted By: John C. Weicher, Assistant Secretary for Housing-Federal Housing Commissioner.

Date Granted: April 30, 2002.

Reason Waived: The project consists of four group homes for the independent living of the chronically mentally ill, each serving three residents. The sites will be designed to allow one bedroom and all common spaces in one home to be fully accessible. To make all 12 units fully accessible for persons with mobility impairments would make the project financially infeasible. The sponsor has indicated that less than 5 percent of the individuals that are served under their programs require accessible housing. Therefore, accessibility of the one site is more than adequate for potential residents.

Contact: Willie Spearmon, Director, Office of Housing Assistance and Grant Administration, Department of Housing and Urban Development, 451 Seventh Street, SW., Washington, DC 20410; telephone: (202) 708-3000.

• Regulation: 24 CFR 891.410(c) and 24 CFR 5.110.

Project/Activity: Hampton Woods Retirement and Hampton Woods II, Jackson, NC; Project Numbers: 053-EH469 and 053-EE009.

Nature of Requirement: Section 891.410(c) limits occupancy to very low income elderly persons, i.e., households of one or more persons at least one of whom is 62 years of age at the time of initial occupancy. Section 5.110 relates to admission of families to projects for elderly or handicapped families that received reservations under Section 202 of the Housing Act of 1959 and housing assistance under Section 8 of the U.S. Housing Act of 1937.

Granted by: John C. Weicher, Assistant Secretary for Housing-Federal Housing Commissioner.

Date Granted: April 8, 2002.

Reason Waived: The Greensboro Multifamily Hub requested an age waiver for the subject project because the current occupancy level of eligible persons and families does not support successful operation of the projects. This waiver would allow the project owner/management agent to rent units to persons between the ages of 55 and 62 years of age with or without disabilities, thus, allowing the owner flexibility in renting up these vacant units. This waiver is in effect for one year from date of approval.

Contact: Beverly J. Miller, Director, Office of Asset Management, Department of Housing and Urban Development, 451 Seventh Street, SW., Room 6160, Washington, DC 20410-7000; telephone: (202) 708-3730.

• Regulation: 24 CFR 891.410(c) and 24 CFR 5.110.

Project/Activity: Friendship Community Care, Clarksville, AR; Project Number: 082-HD048.

Nature of Requirement: Section 891.410(c) limits occupancy to very low income elderly persons, i.e., households of one or more persons at least one of whom is 62 years of age at the time of initial occupancy. Section 5.110 relates to admission of families to projects for elderly or handicapped families that received reservations under Section 202 of the Housing Act of 1959 and housing assistance under Section 8 of the U.S. Housing Act of 1937.

Granted by: John C. Weicher, Assistant Secretary for Housing-Federal Housing Commissioner.

Date Granted: May 14, 2002.

Reason Waived: The Little Rock Multifamily Program Center requested waiver of the income requirements for the subject property because the property has only maintained an 88 percent occupancy rate since receiving permission to occupy in December 2000. The project has no waiting list and only 16 of the 18 units are occupied. Granting this waiver would allow flexibility to market to low-income families and enable property management to lease the vacant units and start a waiting list. This waiver is effective for one year from date of approval.

Contact: Beverly J. Miller, Director, Office of Asset Management, Department of Housing and Urban Development, 451 Seventh Street, SW., Room 6160, Washington, DC 20410-7000; telephone: (202) 708-3730.

• Regulation: 24 CFR 891.410(c) and 24 CFR 5.110.

Project/Activity: Echo Valley Village, Pittsburgh, NH; Project Number: 024-EE040.

Nature of Requirement: Section 891.410(c) limits occupancy to very low-income elderly persons, i.e., households of one or more persons at least one of whom is 62 years of age at the time of initial occupancy. Section 5.110 relates to admission of families to projects for elderly or handicapped families that received reservations under Section 202 of the Housing Act of 1959 and housing assistance under Section 8 of the U.S. Housing Act of 1937.

Granted by: John C. Weicher, Assistant Secretary for Housing-Federal Housing Commissioner.

Date Granted: May 22, 2002.

Reason Waived: The Manchester Multifamily Program Center requested waiver of the age and income requirements for the subject property. The owner/management agent of the subject project has requested permission to waive the elderly and low-income requirements to alleviate the current occupancy and financial problems the property is experiencing. The property will be allowed to rent to the non-elderly, disabled, and handicapped between the ages of 55 and 62 years and allow the applicants to meet the low-income eligibility requirements. This waiver will attempt to rent up vacant units and allow the property to operate successfully. This waiver is effective for one year from date of approval.

Contact: Beverly J. Miller, Director, Office of Asset Management, Department of Housing and Urban Development, 451 Seventh Street, SW., Room 6160, Washington, DC 20410-7000; telephone: (202) 708-3730.

• Regulation: 24 CFR 891.410(c) and 24 CFR 5.110.

Project/Activity: Sugarloaf Village, Diamond City, AR; Project Number: 082-EE091.

Nature of Requirement: Section 891.401(c) limits occupancy to very low income elderly persons, i.e., households of one or more persons at least one of whom is 62 years of age at the time of initial occupancy. Section 5.110 relates to admission of families to projects for elderly or handicapped families that received reservations under Section 202 of the Housing Act of 1959 and housing assistance under Section 8 of the U.S. Housing Act of 1937.

Granted by: John C. Weicher, Assistant Secretary for Housing—Federal Housing Commissioner.

Date Granted: May 23, 2002.

Reason Waived: The Fort Worth Multifamily Hub requested an age waiver for the subject project because the current occupancy level will not support the project. Vacant units will be marketed to people between the ages of 55 and 62 with or without disabilities. Providing for a waiver of the elderly and handicapped requirements will allow the owner additional flexibility to rent up units. This waiver is in effect for one year from the date of approval.

Contact: Beverly J. Miller, Director, Office of Asset Management, Department of Housing and Urban Development, 451 Seventh Street, SW., Room 6160, Washington, DC 20410-7000; telephone: (202) 708-3730.

III. Regulatory Waivers Granted by the Office of Public and Indian Housing

For further information about the following waiver actions, please see the name of the contact person who immediately follows the description of the waiver granted.

• Regulation: 24 CFR Part 761.

Project/Activity: Houma Housing Authority, Houma, LA; LA48DEP0900199/ Public Housing Drug Elimination Program.

Nature of Requirement: Request for waiver of 24 CFR 761.30(b) to allow an extension of time to implement the subject grant activities.

Granted By: Michael Liu, Assistant Secretary for Public and Indian Housing.

Date Granted: May 13, 2002.

Reason Waived: The Houma Housing Authority (HHA) was designated a troubled performer on December 21, 2001. HHA was transferred to the jurisdiction of the Memphis Troubled Agency Recovery Center (TARC) effective January 25, 2002. Upon being transferred, it was noted that the 1999 Public Housing Drug Elimination Program (PHDEP) Grant funds had not been obligated due to the ongoing investigation by the Local District Attorney and HUD's investigation by the Office of Inspector General hindered the draw down of funds. Medical absences of an Executive Director delayed implementation of selected PHDEP projects. The Executive Director was eventually terminated by the Board of Directors on November 18, 2001.

Contact: Sonia L. Burgos, Director, Community Safety and Conservation Division, Office of Public and Assisted Housing Delivery, Office of Public and Indian Housing, Department of Housing and Urban Development, 451 Seventh Street, SW., Room 4206 Washington, DC 20410; telephone: (202) 708-1197, extension 4227.

• Regulation: 24 CFR 761.30(b).

Project/Activity: Roanoke Housing Authority, Roanoke, VA; VA36DEP0110197/ Public Housing Drug Elimination Program.

Nature of Requirement: Request for waiver of 24 CFR 761.30(b) to allow an extension of time to implement the subject grant activities.

Granted By: Michael Liu, Assistant Secretary, Office of Public and Indian Housing.

Date Granted: May 1, 2002.

Reason Waived: The waiver was granted to allow the housing authority to use the balance of the grant for reimbursement for services rendered and to cover grant related administrative expenses. There was a misunderstanding of the grant expenditure deadline and requests for draw down of funds from the Line of Credit Control System (LOCCS) were put on HUD Field Office review.

Contact: Sonia L. Burgos, Director, Community Safety and Conservation Division, Office of Public and Assisted Housing Delivery, Office of Public and Indian Housing, Department of Housing and Urban Development, 451 Seventh Street, SW., Room 4206, Washington, DC 20410; telephone: (202) 708-1197, extension 4227.

• Regulation: 24 CFR 982.306(d).

Project/Activity: Becker County Economic and Redevelopment Authority, Detroit Lakes, Minnesota; Housing Choice Voucher Program.

Nature of Requirement: Section 982.306(d) limits the circumstances under which a public housing agency (PHA) may approve the leasing of a unit if the owner of the unit is a close relative of the family.

Granted By: Michael Liu, Assistant Secretary for Public and Indian Housing.

Date Granted: May 2, 2002.

Reason Waived: Approval of the waiver permitted a large family to lease a unit from a relative because of the unavailability of suitable vacant rental housing in the PHA's jurisdiction.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 982.505(d).

Project/Activity: Boston Housing Authority, Boston, Massachusetts; Housing Choice Voucher Program.

Nature of Requirement: Section 982.505(d) allows a PHA to approve a higher payment within the basic range for a family that includes a person with disabilities as a reasonable accommodation.

Granted By: Michael Liu, Assistant Secretary for Public and Indian Housing.

Date Granted: April 16, 2002

Reason Waived: Approval of the waiver was granted to allow a housing choice voucher participant with disabilities to lease her current unit, which rents for an amount that exceeds 120 percent of the fair market rent. Due to the participant's age and health, it would be an undue hardship for the program participant to seek a unit to lease within the established payment standard amount and relocate.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 982.505(d).

Project/Activity: Riverside County Housing Authority (RCHA), Riverside, CA; Housing Choice Voucher Program. RCHA requested an exception payment standard on behalf of a voucher holder that exceeds 120 percent of the fair market rent as a reasonable accommodation.

Nature of Requirement: Section 982.505(d) allows a PHA to approve a higher payment within the basic range for a family that includes a person with disabilities as a reasonable accommodation.

Granted By: Michael Liu, Assistant Secretary for Public and Indian Housing.

Date Granted: May 20, 2002.

Reason Waived: Approval of the waiver permitted a voucher holder to lease a unit large enough for the family with ample space for dialysis equipment.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 982.505(d).

Project/Activity: The City of Tucson Community Services Department, Tucson, Arizona; Housing Choice Voucher Program.

Nature of Requirement: Section 982.505(d) allows a PHA to approve a higher payment within the basic range for a family that includes a person with disabilities as a reasonable accommodation.

Granted By: Michael Liu, Assistant Secretary for Public and Indian Housing.

Date Granted: May 28, 2002.

Reason Waived: Approval of the waiver was granted to allow a housing choice voucher participant with disabilities to locate a suitable unit that will accommodate her disabilities.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 982.505(d).

Project/Activity: The New York City Housing Authority (NYCHA), New York, New York; Housing Choice Voucher Program.

Nature of Requirement: Section 982.505(d) allows a PHA to approve a higher payment within the basic range for a family that includes a person with disabilities as a reasonable accommodation.

Granted By: Michael Liu, Assistant Secretary for Public and Indian Housing.

Date Granted: June 20, 2002.

Reason Waived: Approval of the waiver was granted to allow the NYCHA to approve an exception payment standard in excess of 120 percent of the published fair market rent to make it possible for a family that includes a person with disabilities to locate a suitable unit.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 983.7(c)(4) and Section II subpart E of the January 16, 2001, Federal Register Notice, Revisions to PHA Project-based Assistance Program; Initial Guidance.

Project/Activity: Akron Metropolitan Housing Authority (AMHA), Akron, Ohio; Project-based Assistance (PBA) Program. The AMHA requested a waiver of the regulation and an exception to the initial guidance to permit the AMHA to attach PBA to 97 units in Callis Tower, a 277-unit elderly building in a 551-unit Section 236 project, Channelwood. The project is located in a census tract with a poverty rate of 32 percent.

Nature of Requirement: Section 983.7(c)(4) prohibits the use of PBA in a Section 236 project. Section II subpart E of the initial guidance requires that in order to meet the Department's goal of deconcentration and expanding housing and economic opportunities, projects must be in census tracts with poverty rates of less than 20 percent.

Granted By: Michael Liu, Assistant Secretary for Public and Indian Housing.

Date Granted: April 26, 2002.

Reason Waived: Approval of the waiver was granted to ensure that the affected elderly families would not be rent burdened. Approval of the exception was granted because the project was in the HUD-designated City of Akron's Enterprise Community whose goals of creating jobs; housing, and new educational and healthcare opportunities are consistent with the goal of deconcentration and expanding housing and economic opportunities.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 983.51(a) and (b).

Project/Activity: New Hampshire Housing Finance Authority (NHHFA), Bedford, New Hampshire; Project-based Assistance Program. The NHHFA requested a waiver of the aforementioned program regulation to allow for the selection of units for project-based assistance that were competitively selected for tax credits and units selected under the NHHFA's Multifamily Housing Production Initiative Program without requiring HUD review and approval of a written selection policy and without advertising for a competitive selection of units under the project-based program.

Nature of Requirement: Section 983.51(a) and (b) require HUD review and approval of a written selection policy and advertisement for the competitive selection of units to receive project-based assistance.

Granted By: Michael Liu, Assistant Secretary for Public and Indian Housing.

Date Granted: April 1, 2002.

Reason Waived: The waiver was granted based on the urgent need for affordable rental housing in New Hampshire and the NHHFA's desire to use project-based assistance for high-ranking proposals under its Multifamily Housing Initiative Program and for projects that were competitively selected for low-income housing tax credits.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: Section II subpart F of the January 16, 2001, Federal Register Notice, Revisions to PHA Project-based Assistance Program; Initial Guidance.

Project/Activity: Columbus Metropolitan Housing Authority (CMHA), Columbus, Ohio; Project-based Assistance (PBA) Program. The CMHA requested an exception to the initial guidance to attach PBA to a greater number of family units than the 25 percent limit to which project-based assistance can be attached to any one building.

Nature of Requirement: Section II subpart F of the initial guidance requires that unless waived, no more than 25 percent of the dwelling units in any building may be assisted under a housing assistance payments (HAP) contract for PBA except for dwelling units that are specifically made available for elderly families, disabled families and families receiving supportive services.

Granted By: Michael Liu, Assistant Secretary for Public and Indian Housing.

Date Granted: April 19, 2002.

Reason Waived: The exception was approved to allow for the attachment of project-based assistance to 100 percent of the units. The exception was approved based on the self-sufficiency nature of the services to be provided at the project. Specifically, the supportive services included assistance with finding and retaining employment, financial responsibility (building income and savings), and encouraging neighborhood and community involvement.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: Section II subpart E and subpart F of the January 16, 2001, Federal Register Notice, Revisions to PHA Project-based Assistance Program; Initial Guidance.

Project/Activity: Boston Housing Authority (BHA), Boston, Massachusetts; Project-based Assistance (PBA) Program. The BHA requested an exception to Section II subpart E of the initial guidance for three projects to permit attachment of project-based assistance to units in census tracts with poverty rates of greater than 20 percent. Additionally, the BHA requested an exception to Section II subpart F of the initial guidance for one project to attach project-based assistance to a greater number of family units than the 25 percent limit to which project-based assistance can be attached to any one building.

Nature of Requirement: Section II subpart E requires that all new project-based assistance agreements or HAP contracts be for units in census tracts with poverty rates of less than 20 percent. Section II subpart F of the initial guidance requires that unless waived, no more than 25 percent of the dwelling units in any building may be assisted under a housing assistance payments (HAP) contract for PBA except for dwelling units that are specifically made available for elderly families, disabled families and families receiving supportive services.

Granted By: Michael Liu, Assistant Secretary for Public and Indian Housing.

Date Granted: April 19, 2002.

Reason Waived: Approval of the requests for an exception to subpart E include the planned neighborhood revitalization, creation of mixed-income housing and job opportunities, and the significant State investment in each area. The approval of the exception to subpart F was based on the self-sufficiency nature of the services to be offered to families residing at the development. The services include child care; parenting education, job re-entry guidance, support and adult basic education instruction.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: Section II subpart E of the January 16, 2001, Federal Register Notice, Revisions to PHA Project-based Assistance Program; Initial Guidance.

Project/Activity: St. Paul Public Housing Agency (SPPHA), St. Paul, Minnesota; Project-Based Assistance (PBA) Program. The SPPHA requested an exception to the initial guidance to permit the SPPHA to attach PBA to Rivertown Apartments which is in a census tract with a poverty rate of 39 percent.

Nature of Requirement: Section II subpart E of the initial guidance requires that in order to meet the Department's goal of deconcentration and expanding housing and economic opportunities, projects must be in census tracts with poverty rates of less than 20 percent.

Granted By: Michael Liu, Assistant Secretary for Public and Indian Housing.

Date Granted: April 26, 2002.

Reason Waived: Approval of the exception was granted since the project was in the HUD-designated St. Paul Enterprise Community whose goals of creating jobs, housing, and new educational and healthcare opportunities are consistent with the goal of deconcentration and expanding housing and economic opportunities.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: Section II subpart E of the January 16, 2001, Federal Register Notice, Revisions to PHA Project-based Assistance Program; Initial Guidance.

Project/Activity: Dayton Metropolitan Housing Authority (DMHA), Dayton, Ohio; Project-based Assistance (PBA) Program. The DMHA requested an exception to the initial guidance to permit the DMHA to attach PBA to Ecumenical Homes that are in census tracts 0036 and 0037 with poverty rates of 43 and 41 percent, respectively.

Nature of Requirement: Section II subpart E of the initial guidance requires that in order to meet the Department's goal of deconcentration and expanding housing and economic opportunities, projects must be in census tracts with poverty rates of less than 20 percent.

Granted By: Michael Liu, Assistant Secretary for Public and Indian Housing.

Date Granted: May 28, 2002.

Reason Waived: Approval of the exception was granted since the project was in four specific neighborhoods, MacFarland, Wright-Dunbar, Paul Laurence Dunbar and Wolf Creek that make up part of a development plan known as Dayton's Inner Ring Strategy. This strategy is a comprehensive economic, housing development and infrastructure improvement initiative directly impacting 14 center city neighborhoods that form a ring around the downtown area. The goals of Dayton's Inner Ring Strategy and the revitalization activities within the neighborhoods in which Ecumenical Homes will be located are consistent with the goal of deconcentration and expanding housing and economic opportunities.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: Section II subpart E of the January 16, 2001, Federal Register Notice, Revisions to PHA Project-based Assistance Program; Initial Guidance.

Project/Activity: Housing Authority of the City of Atlanta (HACA), Atlanta, Georgia; Project-based Assistance (PBA) Program. The HACA requested an exception to the requirement to permit attachment of project-based assistance to 100 units at Park Place South Senior Apartments located in a census tract with a poverty rate of more than 20 percent.

Nature of Requirement: Section II subpart E requires that all new project-based assistance agreements or HAP contracts be for units in census tracts with poverty rates of less than 20 percent.

Granted By: Michael Liu, Assistant Secretary for Public and Indian Housing.

Date Granted: May 28, 2002.

Reason Waived: Approval of the waiver was granted because the significant public investment, mixed-income nature of the area in which the project is located, and the expansion of housing and economic opportunities, are consistent with the goal of the deconcentration requirement under the project-based voucher program.

Contact: Gerald Benoit, Director, Real Estate and Housing Performance Division, Office of Public and Assisted Housing Delivery, Office of Public and Indian Housing, Department of Housing and Urban Development, 451 Seventh Street, SW, Room 4210, Washington, DC 20410; telephone: (202) 708-0477.

• Regulation: Section II subpart F of the January 16, 2001, Federal Register Notice, Revisions to PHA Project-based Assistance Program; Initial Guidance.

Project/Activity: Isothermal Planning and Development Commission (IPDC), Rutherfordton, North Carolina; Project-based Assistance (PBA) Program. The IPDC requested an exception to the initial guidance to permit the IPDC to attach PBA to units in Cameron Farms and Ashley Meadows that exceed the 25 percent cap on the number of units in a building to which PBA can be attached for families receiving supportive services.

Nature of Requirement: Section II subpart F of the initial guidance requires that unless waived, no more than 25 percent of the dwelling units in any building may be assisted under a housing assistance payments contract for PBA except for dwelling units that are specifically made available for elderly families, disabled families and families receiving supportive services.

Granted By: Michael Liu, Assistant Secretary for Public and Indian Housing.

Date Granted: June 3, 2002.

Reason Waived: Approval of the exception was granted because the families living in Cameron Farms and Ashley Meadows will receive educational classes, health seminars, legal workshops, life skills workshops, parenting classes, crime prevention programs, financial workshops and homeownership sessions. All families will be given the opportunity to participate in the IPDC's Family-Self Sufficiency Program. These supportive services are consistent with the statute.

Contact: Gerald Benoit, Director, Real Estate and Housing Performance Division, Office of Public and Assisted Housing Delivery, Office of Public and Indian Housing, Department of Housing and Urban Development, 451 Seventh Street, SW, Room 4210, Washington, DC 20410; telephone: (202) 708-0477.

• Regulation: Section II subpart E and subpart F of the January 16, 2001, Federal Register Notice, Revisions to PHA Project-based Assistance Program; Initial Guidance.

Project/Activity: Minneapolis Public Housing Authority (MPHA), Minneapolis, Minnesota; Project-based Assistance (PBA) Program. The MPHA requested an exception to the initial guidance to permit the MPHA to attach PBA to Armadillo Flats, Franklin Portland Gateway, Park Plaza, Collaborative and Families Moving Forward that are in census tracts with poverty rates that exceed 20 percent. The MPHA also requested an exception to waive the requirement that no more than 25 percent of the dwelling units in any building may be assisted under a housing assistance payments (HAP) contract for PBA except for dwelling units that are specifically made available for elderly families, disabled families and families receiving supportive services for Collaborative Village and Families Moving Forward.

Nature of Requirement: Section II subpart E of the initial guidance requires that in order to meet the Department's goal of deconcentration and expanding housing and economic opportunities, the projects must be in census tracts with poverty rates of less than 20 percent. Section II subpart F requires that no more than 25 percent of the dwelling units in any building may be assisted under a housing assistance payments (HAP) contract for PBA except for dwelling units that are specifically made available for elderly families, disabled families and families receiving supportive services.

Granted By: Michael Liu, Assistant Secretary for Public and Indian Housing.

Date Granted: June 7, 2002.

Reason Waived: Approval of the exception for deconcentration was granted since four of the projects are in the Minneapolis Empowerment Zone and one was within blocks of it. The goals of establishing empowerment zones (to open new businesses, create jobs, housing, and new educational and healthcare opportunities) are consistent with the goal of deconcentration and expanding housing and economic opportunities. Approval of the exception for the number of units in a building that may be project-based was granted because the families living in Collaborative Village will receive supportive services for chemical dependence support, job training, and educational counseling. Families living in Families Moving Forward will receive supportive services for child advocacy and care, a father's program, parenting support, and an aftercare program, all of which will focus on self-sufficiency. These supportive services are consistent with the statute.

Contact: Gerald Benoit, Director, Real Estate and Housing Performance Division, Office of Public and Assisted Housing Delivery, Office of Public and Indian Housing, Department of Housing and Urban Development, 451 Seventh Street, SW, Room 4210, Washington, DC 20410; telephone: (202) 708-0477.

• Regulation: Section II subpart E of the January 16, 2001, Federal Register Notice, Revisions to PHA Project-based Assistance Program; Initial Guidance.

Project/Activity: Burlington Housing Authority (BHA), Burlington, Vermont; Project-based Assistance (PBA) Program. The BHA requested an exception to the aforementioned requirement to permit attachment of project-based assistance to units in a census tract with a poverty rate of greater than 20 percent.

Nature of Requirement: Section II subpart E requires that all new PBA agreements or housing assistance payments contracts be for units in census tracts with poverty rates of less than 20 percent.

Granted By: Michael Liu, Assistant Secretary for Public and Indian Housing.

Date Granted: June 12, 2002.

Reason Waived: The poverty rate in the census tract at issue is 22 percent. The development is located in the same census tract as the University of Vermont. College students have an over-riding impact on the income characteristics of the census tract. If the college age individuals are excluded from the calculation, the census tract poverty rate drops to approximately 8 percent. In light of the unusual skew in the poverty rate data as a result of the University population living in the census tract, the commitment of public funds, the expansion of housing opportunities, and the education opportunities, the request for an exception was granted.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: Section II subpart F of the January 16, 2001, Federal Register Notice, Revisions to PHA Project-based Assistance Program; Initial Guidance.

Project/Activity: Metropolitan Council Housing and Redevelopment Authority (Metro HRA), Fridley, Minnesota; Project-based Assistance (PBA) Program. The Metro HRA requested an exception to the initial guidance to permit the Metro HRA to attach PBA to units at Brandes Place that exceed the 25 percent cap on the number of units in a building to which PBA can be attached for families receiving supportive services.

Nature of Requirement: Section II subpart F of the initial guidance requires that unless waived, no more than 25 percent of the dwelling units in any building may be assisted under a housing assistance payments contract for PBA except for dwelling units that are specifically made available for elderly families, disabled families and families receiving supportive services.

Granted By: Michael Liu, Assistant Secretary for Public and Indian Housing.

Date Granted: June 20, 2002.

Reason Waived: Approval of the exception was granted because the families living in Brandes Place will participate in the Metro HRA's Family Self-Sufficiency program and there will be a close collaboration between the developer and Catholic Charities who will provide a network to the local work force. These supportive services are consistent with the statute.

Contact: Gerald Benoit, Director, Real Estate and Housing Performance Division, Office of Public and Assisted Housing Delivery, Office of Public and Indian Housing, Department of Housing and Urban Development, 451 Seventh Street, SW, Room 4210, Washington, DC 20410; telephone: (202) 708-0477.

• Regulation: Section II subpart F of the January 16, 2001, Federal Register Notice, Revisions to PHA Project-based Assistance Program; Initial Guidance.

Project/Activity: Winston-Salem Housing Authority (WSHA), Winston-Salem, North Carolina; Project-based Assistance (PBA) Program. The WSHA requested an exception to the initial guidance to permit the WSHA to attach PBA to 88 units in Kimberly Park Terrace that exceeds the 25 percent cap on the number of units in a building to which PBA can be attached for families receiving supportive services.

Nature of Requirement: Section II subpart F of the initial guidance requires that unless waived, no more than 25 percent of the dwelling units in any building may be assisted under a housing assistance payments contract for PBA except for dwelling units that are specifically made available for elderly families, disabled families, and families receiving supportive services.

Granted By: Michael Liu, Assistant Secretary for Public and Indian Housing.

Date Granted: June 20, 2002.

Reason Waived: Approval of the exception was granted because the families living in Kimberly Park Terrace, a HOPE VI project, will receive supportive services provided by the Community Affordable Housing Equity Corporation that will include an adult scholarship program, a community grants program to fund such items as furniture for community space and books for the on-site library, a first-time homebuyers program, a technology learning center, and a youth recognition program. These supportive services are consistent with the statute.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: 24 CFR 990.107(f) and 990.109.

Project/Activity: Augusta, GA, Housing Authority. A request was made to permit the authority to benefit from energy performance contracting for developments that have resident-paid utilities. The housing authority estimates that it could increase energy savings substantially if it were able to undertake energy performance contracting for both its PHA-paid and resident-paid utilities.

Nature of Requirement: Under 24 CFR Part 990, Operating Fund Formula energy conservation incentive that relates to energy performance contracting currently applies to only PHA-paid utilities. The Augusta Housing Authority has both PHA-paid and resident-paid utilities.

Granted By: Michael Liu, Assistant Secretary for Public and Indian Housing.

Date Granted: May 3, 2002.

Reason Waived: In September 1996, the Oakland Housing Authority was granted a waiver to permit the housing authority to benefit from energy performance contracting for developments with resident-paid utilities. The waiver was granted on the basis that the Authority presented a sound and reasonable methodology for doing so. The Augusta Housing Authority requested a waiver based on the same approved methodology. The waiver permits the housing authority to exclude from its Performance Funding System calculation of rental income the increased rental income due to the difference between updated baseline utility allowances (before implementation of the energy conservation measures) and revised allowances (after implementation of the measures) for the project(s) involved for the duration of the contract period, which cannot exceed 12 years.

Contact: Regina McGill, Director, Attn: Peggy Mangum, extension 4039, Funding and Financial Management Division, Office of Public and Assisted Housing Delivery, Office of Public and Indian Housing, 451 Seventh Street, SW., Washington, DC 20410; Room 4216; (202) 708-1872.

• Regulation: 24 CFR 990.107(f) and 990.109.

Project/Activity: Opelika, AL, Housing Authority. A request was made to permit the authority to benefit from energy performance contracting for developments that have resident-paid utilities. The housing authority estimates that it could increase energy savings substantially if it were able to undertake energy performance contracting for resident-paid utilities.

Nature of Requirement: Under 24 CFR Part 990, Operating Fund Formula energy conservation incentive that relates to energy performance contracting currently applies to only PHA-paid utilities. The Opelika Housing Authority has resident-paid utilities.

Granted By: Michael Liu, Assistant Secretary for Public and Indian Housing.

Date Granted: May 3, 2002.

Reason Waived: In September 1996, the Oakland Housing Authority was granted a waiver to permit the authority to benefit from energy performance contracting for developments with resident-paid utilities. The waiver was granted on the basis that the authority presented a sound and reasonable methodology for doing so. The Opelika Housing Authority requested a waiver based on the same approved methodology. The waiver permits the HA to exclude from its PFS calculation of rental income the increased rental income due to the difference between updated baseline utility allowances (before implementation of the energy conservation measures) and revised allowances (after implementation of the measures) for the project(s) involved for the duration of the contract period, which cannot exceed 12 years.

Contact: Regina McGill, Director, Attn: Peggy Mangum, extension 4039, Funding and Financial Management Division, Office of Public and Assisted Housing Delivery, Office of Public and Indian Housing, 451 Seventh Street, SW., Washington, DC 20410; Room 4216; (202) 708-1872.

• Regulation: 24 CFR 1000.327(b).

Project/Activity: Nondalton Tribal Council's submission of an Indian Housing Plan (IHP) for FY 2002 funding made available under the Native American Housing Assistance and Self-Determination Act of 1996.

Nature of Requirement: The regulation notifies Indian tribes not located on a reservation, including each Alaska Native village, regional Indian tribe, regional corporation, or its tribally designated housing entity (TDHE) that they must notify HUD in writing by September 15 each year whether it or its TDHE intends to submit an IHP. If an Alaska Native village notifies HUD that it does not intend either to submit an IHP or to designate a TDHE to do so, or if HUD receives no response from the Alaska Native village or its TDHE, the formula data which would have been credited to the Alaska Native village will be credited to the regional Indian tribe, or if there is no regional Indian tribe, to the regional corporation.

Granted By: Mr. Michael Liu, Assistant Secretary, Office of Public and Indian Housing.

Date Granted: June 7, 2002.

Reason Waived: The Alaska Office of Native American Programs may not have received the Tribe's notification of intent to submit an IHP by the deadline due to the state of affairs surrounding September 11, 2001, and the Tribal Administrator's medical condition.

Contact: Deborah Lalancette, Director, Grants Management, Denver Program ONAP, Department of Housing and Urban Development, 1999 Broadway, Suite 3390, Denver, CO 80202; telephone: (303) 675-1600, extension 3325.

[FR Doc. 02-25499 Filed 10-9-02; 8:45 am]

BILLING CODE 4210-32-P